FEDERAL TRADE COMMISSION

Privacy Act of 1974; System of Records Notices

AGENCY: Federal Trade Commission (FTC).

ACTION: Notice of revised system notices with request for comments.

SUMMARY: The FTC is revising the notices that it is required to publish under the Privacy Act of 1974 to describe its systems of records about individuals. This action is intended to make these notices clearer, more accurate, and up-to-date. This document also consolidates all of the notices into a single publication for ease of use and reference. This consolidation and revision is designed to promote better public understanding of how and when the FTC collects and uses information about individuals.

DATES: The deadline for any comments on this notice is July 14, 2008. Unless the FTC makes changes based on comments or otherwise, this notice shall become final and effective on July 28, 2008.

ADDRESSES: Interested parties are invited to submit written comments. Comments should refer to “FTC Privacy Act Systems Notices, Project No. P072104” to facilitate the organization of comments. A comment filed in paper form should include this reference both in the text and on the envelope, and should be mailed or delivered to the following address: Federal Trade Commission, Office of the Secretary, Room H-135 (Annex P), 600 Pennsylvania Avenue, NW., Washington, DC 20580. The FTC is requesting that any comment filed in paper form be sent by courier or overnight service, if possible, because U.S. postal mail in the Washington area and at the Commission is subject to delay due to heightened security precautions. Moreover, because paper mail in the Washington area and at the FTC is subject to delay, please consider submitting your comments in electronic form, as prescribed below. If, however, the comment contains any material for which confidential treatment is requested, it must be filed in paper form, and the first page must be clearly labeled “Confidential.”¹

¹ See Commission Rule 4.2(d), 16 CFR 4.2(d). The comment must be accompanied by an explicit request for confidential treatment, including the factual and legal basis for the request, and must identify the specific portions of the comment to be withheld from the public record. The request will be granted or denied by the Commission’s General Counsel, consistent with applicable law and the public interest. See Commission Rule 4.9(c), 16 CFR 4.9(c).

Comments filed in electronic form should be submitted by using the following weblink: https://secure.commentworks.com/ftc-recordssystemsnotices (and following the instructions on the web-based form). To ensure that the Commission considers an electronic comment, you must file it on the web-based form at the weblink https://secure.commentworks.com/ftc-recordssystemsnotices. If this notice appears at http://www.regulations.gov, you may also file an electronic comment through that website. The Commission will consider all comments that regulations.gov forwards to it. You may also visit the FTC website at http://www.ftc.gov/opa/index.shtml to read this document and the related FTC news release.

The FTC Act and other laws the Commission administers permit the collection of public comments to consider and use in this proceeding as appropriate. The Commission will consider all timely and responsive public comments that it receives, whether filed in paper or electronic form. Comments received will be available to the public on the FTC website, to the extent practicable, at http://www.ftc.gov. As a matter of discretion, the FTC makes every effort to remove home contact information for individuals from the public comments it receives before placing those comments on the FTC website. More information, including routine uses permitted by the Privacy Act, may be found in the FTC's privacy policy, at (http://www.ftc.gov/ftc/privacy.htm).

FOR FURTHER INFORMATION CONTACT: Alex Tang, G. Richard Gold, or Lorielle L. Pankey, Attorneys, Office of the General Counsel, FTC, 600 Pennsylvania Avenue, NW., Washington, DC 20580, (202) 326-2424.

SUPPLEMENTARY INFORMATION: Please read the following questions and answers to understand the reasons for this notice.

Who should read this notice?

You should read this notice if you would like to know what information the Federal Trade Commission (FTC) collects and maintains about individuals.

Why is the FTC publishing this notice?

The Privacy Act of 1974, 5 U.S.C. 552a, requires us to publish this notice.

What is the Privacy Act?

The Privacy Act is a Federal law that protects information about individuals (i.e., personal information) in “systems of records” maintained by the United States Government. It provides the public with the right to know when a Government agency is maintaining any system of records about individuals, and it limits the agency’s ability to use or disclose a record about an individual from such a system without that individual’s consent.

Does the FTC maintain any systems of records about individuals?

Yes. The FTC, like other Government agencies, maintains systems of records about its individual employees, such as payroll and other personnel records. The FTC also maintains systems of records about individuals outside the FTC. For example, the National Do Not Call Registry is the system of records we use to maintain the phone numbers of individuals who do not want to receive telemarketing calls. We also maintain a system of nonpublic investigatory or other nonpublic legal records, which include records about other non-FTC individuals. These and other FTC systems of records are discussed below.

What is a “system of records”?

A “system of records” can be any collection or grouping of paper, electronic, or other records (e.g., microfiche) controlled by a Federal agency about individuals. (It does not include agency records about businesses or about individuals who are not U.S. citizens or lawfully admitted aliens.) To be a “system of records,” the agency must pull (“retrieve”) records about an individual from the system by that individual’s name or by some other identifier assigned to that individual, such as the individual’s Social Security number or telephone number. The record must also be “about” that individual. If a record is only about someone or something else (e.g., about a business), it is not a record “about” that individual.

How do I know if the FTC has any records about me or other individuals in a system of records?

To inform the public, this document contains a “system of records notice” (SORN) for each system of records about individuals that the FTC currently maintains within the meaning of the Privacy Act. Each SORN describes the records maintained in that particular system, including the categories of individuals that the records in the system are about (e.g., FTC employees). Each system notice also contains information about how to find out if that particular system contains any records about you.

What other information is in the SORN?

Each SORN also explains where the system is maintained, what laws or other authority permits the FTC to maintain the system, the purpose of the system, and how we safeguard records in the system. The SORN also includes other information about the system, including the “routine uses” of records in that system. (A “routine use” means a disclosure of a record that is compatible with the purpose for which that record was collected.)

Why is the FTC publishing these SORNs now?

The Privacy Act requires the FTC to publish a SORN before establishing a system of records under the Act. The FTC must update that SORN when the agency makes certain changes to the system. The FTC has published SORNs for individual systems of records, and updates of these SORNs as needed, but this is the first time since 1992 (57 FR 45678) that the FTC has published a complete list of its SORNs in one document.

Can I view these SORNs online?

Yes. We post our SORNs on the FTC’s Web site, www.ftc.gov, in the Privacy Act section, and we will post this document, too. (It is also officially published in the FEDERAL REGISTER online, (http://www.gpoaccess.gov/fr/Index.html).)

Is the FTC deleting or adding SORNs?

Yes. The FTC is deleting seven SORNs that covered records the FTC no longer maintains or records that are now merged with or otherwise covered by other existing SORNs.² At the same time, the FTC is adding nine new SORNs to cover records that were covered in whole or part by other existing SORNs.³

² See former FTC-I-6 (Office of the Secretary Control and Reporting System—FTC), now part of FTC-I-5 (Matter Management System—FTC); former FTC-II-4 (Counseling Records—FTC), now Employee Assistance Program records covered by a Health and Human Services SORN, as discussed below; former FTC-II-8 (Biographies of Commissioners and Key Staff Members—FTC), now part of FTC-I-6 (Public Records—FTC); former FTC-III-2 (Payroll—Retirement Records—FTC), now part of FTC-III-1 (Personnel Payroll System—FTC); former FTC-IV-2 (Identity Theft Complaint Management System—FTC), now part of FTC-IV-1 (Consumer Information System—FTC); former FTC-V-3 (Public Information Requests System—FTC), now part of FTC-IV-1 (Consumer Information System—FTC); former FTC-VII-4 (Standard Name System—FTC), no longer maintained.

³ See new FTC-I-6 (Public Records—FTC), previously part of FTC-I-1 (formerly Investigational, Legal and Public Records—FTC, now Nonpublic Investigational Records and other Nonpublic Legal Program Records—FTC); new FTC-II-4 (Employment Application-Related Records—FTC), covered by an existing SORN published by the Office of Personnel Management (OPM), as discussed below; new FTC-II-8 (Employee Adverse Action and Disciplinary Records—FTC), covered by an existing OPM SORN, as discussed below; new FTC-II-13 (Staff Time and Attendance Reporting (STAR) System—FTC), covering matter and time and attendance data also included in FTC-I-5 (Matter Management System—FTC) and FTC-III-1 (Personnel Payroll System—FTC); new FTC-III-2 (Travel Management System—FTC), covered by an existing General Services Administration (GSA) SORN, as discussed below; new FTC-III-4 (Automated Acquisitions System—FTC), covering vendor data also included in part in FTC-III-3 (Financial Management System—FTC); FTC-III-5 (Employee Transportation Program Records—FTC), covering copies of data transmitted to the Department of Transportation (DOT) under a DOT SORN, as discussed below; FTC-IV-2 (Miscellaneous Office Correspondence Tracking System Records—FTC), previously covered by FTC-IV-1 (former Correspondence Control System—FTC, now Consumer Information System—FTC); new FTC-VI-4 (Call Detail Records—FTC), covering records subject to a model Office of Management & Budget (OMB) SORN, as described below.

Are there other SORN changes?

Yes. We have revised our SORNs throughout so they more accurately describe the scope, type, or purpose of records we are currently maintaining in those systems. We have updated the descriptions of our storage, retention and information security practices. We also have made other technical or stylistic changes, such as revising some system names. We have also created a new Appendix III to update and consolidate the addresses of the FTC’s regional offices and other facilities where records may be maintained or accessed. Where applicable, we have also explained when a system has been “outsourced” (i.e., when the FTC is using a contractor to operate or maintain the system). A system-by-system summary of the revised SORNs is set forth at the end of this question-and-answer section.

Can I comment on these SORNs?

Yes. Please see the ADDRESSES section of this document above to learn how to submit a comment, and see the DATES section for the deadline to do so. Before you submit a comment, please be aware that your comment will become a matter of public record and will be posted on our Web site, where it can be viewed and searched by anyone on the Internet.

Do other Federal agencies have SORNs?

Yes. Each Federal agency must publish SORNs for its own systems of records. To find out what system of records another Federal agency maintains, and to obtain the SORNs for those systems, contact that agency directly, or visit its Web site. (Privacy Act information is often linked to an agency’s Freedom of Information Act (FOIA) page.)

Does the Privacy Act of 1974 apply to records that private businesses maintain about individuals?

No. The Privacy Act of 1974 applies only to records maintained by agencies of the United States Government. Records that businesses or other private entities maintain on their customers or other individuals are covered by other laws and regulations applicable to the private sector. The FTC enforces some of these laws and regulations as part of its mandate to protect consumers from unfair and deceptive acts and practices.

How can I learn more about the privacy laws and regulations that the FTC enforces?

To learn more about how the FTC works to protect consumer privacy, please visit the FTC’s Web site, www.ftc.gov. It contains a wealth of information about how to avoid identity theft, how to safeguard your information when using the Internet, and other helpful guidance and advice to help you protect your privacy.

System-by-System SORN Summary

The following summary highlights changes that the FTC is making to each of its SORNs.

I. FTC Law Enforcement Systems of Records

FTC-I-1 (Nonpublic Investigational and Other Nonpublic Legal Program Records—FTC). This SORN previously included public records about individuals. For clarity, the FTC has decided to treat public records as a separate system of records. Accordingly, we have revised FTC-I-1 to cover only nonpublic investigational and other nonpublic program records, and public records previously covered by this system are now treated as a separate system with its own SORN, designated as FTC-I-6 (Public Records—FTC), see below.

FTC-I-2 (Disciplinary Action Investigatory Files—FTC). This SORN covers records compiled to determine whether the FTC should refer an individual practicing before the FTC to appropriate authorities for alleged ethical or other misconduct. No substantive changes have been made.

FTC-I-3 (Informal Advisory Opinion Requests and Response Files—FTC). This SORN covers the records of individuals who have requested informal advisory opinions from the FTC staff, and records of the responses to such requests. We have clarified and simplified the system name, and made other technical changes and clarifications.

FTC-I-4 (Clearance Applications and Response Files—FTC). This SORN covers records of individuals who have requested clearance to participate or appear on behalf of other parties in FTC matters, and records of the FTC’s responses to such requests. We have simplified the system name, but made no substantive changes.

FTC-I-5 (Matter Management System—FTC). This SORN covers the administrative database used by the FTC to track and report the history and status of FTC investigations and other agency matters, including names of employees or others assigned to or involved in such matters. We have updated the system name, and have revised the scope of the SORN to include the system of records known as the Office of the Secretary Control and Reporting System (OSCAR), which tracks matters circulated to the FTC’s Commissioners for voting or informational purposes. OSCAR was previously treated as a separate Privacy Act system of records (FTC-I-6), but those records have now been made merged into this system (FTC-I-5).

FTC-I-6 (Public Records—FTC). FTC-I-6 is now the designation for a new SORN covering the FTC’s system of public records, which were previously part of FTC-I-1, see above. FTC-I-6 includes comments submitted by consumers and others in rulemakings, workshops, or other FTC proceedings. The FTC makes these public records routinely available for public inspection and copying, including by posting copies of such records on the Internet, as noted in section 4.9(b) of the FTC Rules of Practice, 16 CFR 4.9(b), and explained in the FTC’s online privacy policy posted at www.ftc.gov. Some public comments are also collected for the FTC by the government-wide Federal Docket Management System (FDMS), through www.regulations.gov, which is maintained and operated on behalf of all Federal agencies by the Environmental Protection Agency (EPA). Public comments or other records collected through the FDMS are covered by the SORN that EPA has separately published for the FDMS. See EPA-GOVT-2 (FDMS), 70 FR 15086 (2005).

FTC-I-7 (Office of Inspector General Investigative Files—FTC). This SORN covers investigatory records in the FTC’s Office of Inspector General (OIG). The FTC published the last revision of this SORN in 2005 (70 FR 43431). The FTC is adding a routine use, found in other agencies’ SORNs, to keep complainants and victims apprised of the status of the OIG’s investigation, which is compatible with the purpose for which the OIG’s investigatory records are compiled. Otherwise, only minor editorial changes have been made.

FTC-I-8 (Stenographic Reporting Services Request System—FTC). This SORN covers the database system that the FTC uses to log and fulfill requests by FTC attorneys for stenographic services in FTC investigations, litigation and other FTC matters. The SORN remains unchanged, aside from minor editorial and stylistic revisions.

II. FTC Personnel Systems of Records

FTC II-1 (General Personnel Records—FTC). This SORN covers Official Personnel Folders (OPFs) and other personnel records that the FTC’s Human Resources Management Office (HRMO) maintains about FTC employees. The Office of Personnel Management (OPM) has published a Government-wide SORN that covers this system of records, OPM/GOVT-1 (General Personnel Records). See 71 FR 35341, 35342 (2006). We have revised FTC-II-1 to make it more consistent with OPM’s SORN, and have made other minor revisions.

FTC-II-2 (Unofficial Personnel Records—FTC). This SORN covers personnel records maintained outside of the FTC’s HRMO by FTC managers about their employees. This system includes employee performance files maintained by managers. OPM has published a Government-wide SORN that covers those records, OPM/GOVT-2 (Employee Performance File System Records). See 71 FR 35341, 35347 (2006). We have revised FTC-II-2 to make it more consistent with OPM’s SORN, and have made other minor revisions.

FTC-II-3 (Workers’ Compensation—FTC). This SORN covers FTC records of claims filed under the Federal Employees’ Compensation Act (FECA) for injuries sustained on the job by FTC employees. The Department of Labor (DOL) processes and adjudicates these claims for all Federal employees. DOL has published a SORN to cover its Government-wide system of FECA claims records, DOL/GOVT-1 (Office of Workers’ Compensation Programs, FECA File), which is operated and maintained by a DOL contractor. See 67 FR 16815 (2002). We have revised FTC-II-3 to make it more consistent with DOL’s SORN, and have made other minor revisions.

FTC-II-4 (Employment Application-Related Records—FTC). The FTC has deleted the SORN previously designated as FTC-II-4, which covered employee counseling records maintained on-site by the FTC. Counseling records for FTC employees are now compiled, maintained, and controlled solely by the Department of Health and Human Services (HHS), which provides an Employee Assistance Program (EAP) to the FTC’s employees under an interagency agreement. Those counseling records are covered by the relevant SORN published by HHS. See HHS SORN No. 09-90-0010 (EAP Records), 67 FR 4965 (2002). FTC-II-4 now designates a new SORN covering the FTC system of records compiled from or about individuals who have applied for FTC employment, including individual applications, resumes, references or other records submitted for FTC consideration. The FTC has not previously published a SORN for this system of records because a Government-wide OPM SORN already covers this system, OPM/GOVT-5 (Recruiting, Examining, and Placement Records). See 71 FR 35351 (2006). Nonetheless, for clarity and ease of reference, the FTC is publishing its own SORN for this system, as the FTC has done for other FTC systems that overlap with OPM systems (e.g., FTC-II-1, FTC-II-2).

FTC-II-5 (Equal Employment Opportunity Statistical Reporting System—FTC). This SORN covers the confidential FTC personnel database maintained for the FTC’s Equal Employment Opportunity (EEO) Office to generate statistical reports and analyses for the FTC’s EEO program. An OPM Government-wide SORN also covers the applicant-related data compiled in this FTC system, OPM/GOVT-7 (Applicant Race, Sex, National Origin, and Disability Status Records). See 71 FR 35356 (2006). Minor revisions have been made to FTC-II-5 regarding the system’s purpose, records, storage, and other aspects of the system, consistent with the OPM SORN.

FTC-II-6 (Discrimination Complaint System—FTC). This SORN covers investigatory files and related documentation generated in EEO pre-complaint counseling and investigations at the FTC. These records also are covered by a Government-wide SORN published by the Equal Employment Opportunity Commission (EEOC), EEOC/GOVT-1 (Equal Employment Opportunity in the Federal Government Complaint and Appeal Records). See 67 FR 49338 (2002); 71 FR 24704 (2006) (updating system managers). Minor revisions have been made, consistent with the EEOC SORN.

FTC-II-7 (Ethics Program Records—FTC). This SORN covers annual financial statements and other filings or requests by FTC officials and employees under the FTC’s ethics program. The Office of Government Ethics (OGE) has published two Government-wide SORNs that together cover records in this FTC system. See OGE/GOVT-1 (Public Financial Disclosure Reports and Other Name-Retrieved Ethics Program Records), OGE/GOVT-2 (Confidential Financial Disclosure Reports). See 68 FR 3098, 24744 (2003). We have revised FTC-II-7 to make it more consistent with the OGE SORNs and to make other minor clarifications.

FTC-II-8 (Employee Adverse Action and Disciplinary Records—FTC). The FTC has removed the SORN previously designated as FTC-II-8, which covered biographies maintained by the FTC’s public affairs office on Commissioners and key staff members. That biographical information is now maintained and posted on the FTC’s Web site, which is part of the FTC public records system. (See FTC-I-6 above.) FTC-II-8 now designates the FTC’s system of employee adverse action and disciplinary files. The FTC has not previously published a SORN for this system of records, since an OPM Government-wide SORN covers these records, OPM/GOVT-3 (Records of Adverse Actions, Performance Based Reduction in Grade and Removal Actions, and Termination of Probationers). See 71 FR 35342, 35350 (2006). Nonetheless, for clarity and ease of reference, the FTC is now publishing its own SORN for this system, as the FTC has done for other FTC systems that overlap with OPM systems (e.g., FTC-II-1, FTC-II-2).

FTC-II-9 (Claimants Under Federal Tort Claims Act and Military Personnel and Civilian Employees’ Claims Act—FTC). This SORN covers records generated by tort claims and other claims filed with the FTC by its employees or others under the named statutes. No substantive changes have been made.

FTC-II-10 (Employee Health Care Records—FTC). This SORN covers records maintained by the FTC’s employee health unit, which relies upon an HHS Program Support Center (PSC) contractor to provide on-site health services to our employees at certain FTC facilities. We have clarified the scope of the SORN to be consistent with a related HHS SORN, No. 09-40-0005 (Public Health Service (PHS) Beneficiary-Contract Medical/Health Care Records). See 63 FR 68596 (1998). This SORN excludes personnel-related medical records for FTC employees (e.g., fitness-for-duty examinations, if any), which would be covered by the applicable OPM Government-wide SORN, OPM/GOVT-10 (Employee Medical File System Records). See 71 FR 35360 (2006).

FTC-II-11 (Personnel Security, Identity Management & Access Control Records—FTC). This SORN covers security-related records for determining the eligibility of FTC employees or other authorized individuals (e.g., on-site contractors) for access to FTC facilities and resources, as well as records related to granting and controlling such access. This SORN already covered personnel security investigatory files used to make the eligibility determinations. We have clarified the SORN to include related records collected or generated in the process of issuing credentials (e.g., ID badges) to employees or others for gaining access to FTC facilities and resources. We are also clarifying the SORN to include access logs or other records maintained or used to determine and control when and how such credentials are used by our employees or others to gain access to FTC facilities and resources. This revision includes a routine use to disclose such logs or records for investigatory and law enforcement purposes, which is compatible with the purpose for which such logs or records are compiled.

FTC-II-12 (Training Reservation System—FTC). This SORN covers the system used by the FTC’s HRMO to track and log requests of FTC employees to attend training courses. Only minor non-substantive changes have been made.

FTC-II-13 (Staff Time and Attendance Reporting (STAR) System—FTC). This SORN covers the system that the FTC uses to compile statistics on time spent by each employee on various FTC matters. The FTC already maintains matter-related data in its Matter Management System (FTC-I-5) about individual employee participation in such matters, and also maintains employee time and attendance data in its employee payroll system (FTC-III-1). Because the STAR system combines matter data as well as time and attendance data for FTC employees, the FTC is publishing a separate SORN for the STAR system.

III. FTC Financial Systems of Records

FTC-III-1 (Personnel Payroll System—FTC). This SORN, which covers payroll processing records for FTC employees, now also covers retirement records, which were previously treated as a separate records system with its own SORN (FTC-III-2). We have merged retirement records into FTC-III-1, and are using FTC-III-2 to designate a new and different system of records, as described below. We have also updated FTC-III-1 to reflect the applicable SORN published by the Department of Interior (DOI), which manages payroll and retirement data for the FTC. See DOI-85 (Payroll, Attendance, Retirement, and Leave Records), 64 FR 26997 (1999); 73 FR 8342 (2008) (proposed routine use amendments).

FTC-III-2 (Travel Management System—FTC). FTC-III-2 is now the SORN for the FTC Travel Management System, which covers travel documentation for FTC employees and other authorized individuals on official travel for the FTC. To the extent these travel data are collected and maintained by the FTC’s travel management contractor, they are already covered by a Government-wide General Services Administration (GSA) SORN, GSA/GOVT-4 (Contracted Travel Services Program). See 71 FR 48764 (2006). Nonetheless, the FTC is publishing a SORN to include those data as well as any other miscellaneous data that various FTC offices may collect and maintain in a system or records about individuals on official travel for the FTC.

FTC-III-3 (Financial Management System—FTC). This SORN covers FTC records reflecting payments or reimbursements for travel by its employees and others (compare FTC-III-2 above) and payments for the acquisition of other goods or services (compare FTC-III-4 below). The FTC has revised FTC-III-3 to clarify its relationship to the other related SORNs, as well as to the applicable SORN published by DOI, which processes and manages financial data for the FTC. See DOI-90 (Federal Financial System), 64 FR 46930 (1999), 73 FR 8342 (2008) (proposed routine use amendments).

FTC-III-4 (Automated Acquisitions System—FTC). This new SORN covers the system used within the FTC to track requisitions (orders) for goods or services from non-FTC sources. In the past, records of such requisitions were partly reflected in records of payments for goods and services made through the Financial Management System (FTC-III-3, above). The FTC is now treating this requisitions data as a separate system of records with its own SORN designated as FTC-III-4.

FTC-III-5 (Employee Transportation Program Records—FTC). The FTC is adding this SORN to cover its file system of paper copies of requests submitted by FTC employees for commuting subsidies through a program administered by the Department of Transportation (DOT). The corresponding DOT SORN is DOT/ALL 8 (Employee Transportation Facilitation). See 65 FR 19475, 19482 (2000). This SORN also includes other records relating to employee transportation programs that the FTC may administer from time to time (e.g., garage parking permits).

IV. FTC Correspondence Systems of Records

FTC-IV-1 (Consumer Information System—FTC). This SORN, previously entitled “Correspondence Control System,” is now limited to consumer complaints and information requests received from consumers, as well as identity theft complaints, which were previously treated as a different system of records, under FTC-IV-2. Non-consumer correspondence control records previously covered by this system are now covered by a separate SORN, designated as FTC-IV-2. We have updated the system location for FTC-IV-1 to reflect the fact that a contractor maintains the system for the FTC. The SORN has also been revised to explain that the system also maintains contact information about authorized system users (e.g., staff of other law enforcement agencies) to be shared among such users. The SORN includes a corresponding routine use for such sharing, which is compatible with the purpose for which such contact information is collected and maintained.

FTC-IV-2 (Miscellaneous Office Correspondence Tracking System Records—FTC). As noted above, identity theft records previously covered by FTC-IV-2 are now covered by FTC-IV-1. FTC-IV-2 is now a new SORN covering the miscellaneous non-consumer correspondence and matter tracking records that were previously covered as part of FTC-IV-1, above.

FTC-IV-3 (National Do Not Call Registry—FTC). This SORN covers records of individuals who wish to be placed on the FTC’s telemarketing do-not-call list. It also covers information collected from telemarketers, sellers, or agents who are required to comply with the list, but only to the extent, if any, that such telemarketers, sellers, or agents are also “individuals” within the meaning of the Privacy Act. The revised SORN clarifies that user fee payment data are collected from these telemarketers, sellers, or agents by the Treasury Department’s Financial Management Service (FMS) through its www.pay.gov system, and that such data are also covered by the applicable system notice published by Treasury/FMS for that system, Treasury/FMS.017 (Collections Records). See 70 FR 34522 (2005). No substantive changes have been made to this SORN.

V. FTC Access Requests

FTC-V-1 (Freedom of Information Act Requests and Appeals—FTC). The FTC is revising this SORN to reflect the use of a commercial software application to maintain these records. No substantive changes have been made.

FTC-V-2 (Privacy Act Requests and Appeals—FTC). The FTC is revising this SORN to reflect the use of a commercial software application to maintain these records. No substantive change have been made.

FTC-V-3 (Deleted). This SORN, which the FTC has deleted, previously described records of requests made to the FTC’s public reading room for public information. Records of those requests are now collected and maintained as part of the FTC’s Consumer Information System. See FTC-IV-1 above.

VI. FTC Mailing List Systems of Records

FTC-VI-1 (Mailing and Contact Lists—FTC). The FTC is revising the title and other portions of this SORN to clarify the scope, nature, and purpose of these records.

VII. FTC Miscellaneous Systems of Records

FTC-VII-1 (Automated Library Management System—FTC). The FTC has revised the system name, previously “Automated Serials Routing System,” to provide a more accurate description of this system’s scope and purpose. The FTC has made other revisions to provide a more detailed explanation of the records maintained in the system, and the categories of individuals covered by the system.

FTC-VII-2 (Employee Locator (STAFFID) System—FTC). The FTC has revised the system name to reflect the internal database name used at the FTC. The FTC has made other revisions to clarify the uses and purpose of the system.

FTC-VII-3 (Computer Systems User Identification and Access Records—FTC). The FTC has revised the system name and other portions of the SORN to clarify the system’s scope and purpose.

FTC-VII-4 (Call Detail Records—FTC). The FTC is adding this SORN to cover records that the FTC maintains on telephone usage by employees, contractors and other individuals, consistent with the Office of Management & Budget (OMB) model SORN for such records. See 52 FR 12990 (1987). This SORN is intended to authorize the FTC to retrieve such usage records by individual user name, phone number or other personal identifier. This SORN replaces the SORN previously designated as FTC-VII-4, which covered the Standard Name System, an internal directory that was previously used to ensure the standardized spelling of proper names of individuals and entities in Commission matters, which the Commission no longer uses or maintains.

FTC-VII-5 (Property Management System—FTC). The FTC has made minor technical and stylistic changes to this SORN, which covers property logs or other records that the FTC maintains to account for FTC office equipment, keys, or other FTC property assigned to individual employees or others.

FTC-VII-6 (Document Management and Retrieval System—FTC). The FTC has revised the system name and made other revisions to the scope of this SORN. This SORN covers legacy (microfiche) and current electronic data collections of FTC memoranda and other agency records that may be managed by and retrieved by the author’s name or other personal identifiers.

FTC-VII-7 (Administrative Service Order System—FTC). The FTC has made minor technical and stylistic changes to this SORN, which covers the database system used by the FTC’s Administrative Service Office to track and fulfill requests made by employees or other individuals for building repairs, maintenance or other administrative services.

FTC-VII-8 (Information Technology Service Ticket System—FTC). The FTC has revised this SORN to reflect the fact that the FTC has outsourced this function to a contractor, which now operates and maintains the electronic system used to track and fulfill employee and other requests for computer assistance, repairs, etc.

Appendix I (Authorized Disclosures and Routine Uses Applicable to All FTC Privacy Act Systems of Records). The FTC has updated this Appendix to consolidate the routine uses that apply globally to all FTC systems of records, including the most recent routine use published by the FTC in 2007 for disclosures of Privacy Act records if needed to help identify or remedy data breach situations. See 72 FR 31835. The FTC is also adding a new global routine use to clarify that the FTC may disclose Privacy Act records to the FTC’s contractors, interns or other authorized FTC individuals who have a need for the record in order to perform officially assigned or designated FTC duties. As required by the Privacy Act, this routine use is compatible with the basis and purpose for which the FTC collects and maintains Privacy Act records, since the Act already authorizes similar internal (intra-agency) disclosures to “officers and employees” of the agency as needed to carry out officially assigned or designated duties. See 5 U.S.C. 552a(b)(1). For the public’s convenience, the revised Appendix also includes a complete list of other disclosures that the Privacy Act explicitly authorizes, but which the Act does not require the FTC to publish. See 5 U.S.C. 552a(b)(1)-(12).

Appendix II (How to Make a Privacy Act Request). The FTC has expanded this Appendix to include more detailed information about how to make a Privacy Act request for access, correction or amendment. It explains that some systems may be exempt from such requests or from other requirements of the Act, and provides other relevant information to individuals who might file such a request.

Appendix III (FTC System Locations). This Appendix, which is new, updates and consolidates the addresses of all FTC facilities, including its satellite building in Washington, DC, and regional offices. It also explains that the FTC may maintain records in other leased facilities or, in certain cases, may have contractors operate or maintain Privacy Act record systems off-site.

FTC Systems of Records Notices

Accordingly, the FTC proposes to revise and update its Privacy Act systems of records as follows:

I. FTC Law Enforcement Systems of Records

FTC-I-1

SYSTEM NAME:

Nonpublic Investigational and Other Nonpublic Legal Program Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Participants in Commission investigations, rulemaking, advisory, and law enforcement proceedings; parties requesting formal advisory opinions; and consumers who have received redress or who are entitled to redress pursuant to Commission or court orders. (Businesses, sole proprietorships, or corporations are not covered by this system.) Parties requesting informal advisory opinions are covered by FTC-I-3, Informal Advisory Opinion Request and Response Files—FTC.

CATEGORIES OF RECORDS IN THE SYSTEM:

Name, address, employment status, age, date of birth, financial information, credit information, personal history, and records collected and generated during the investigation, which may include correspondence relating to the investigation; internal staff memoranda; copies of subpoenas issued during the investigation, affidavits, statements from witnesses, transcripts of testimony taken in the investigation, and accompanying exhibits; documents, records or copies obtained during the investigation; interview notes, investigative notes, staff working papers, draft materials, and other documents and records relating to the investigation; opening reports, progress reports, and closing reports; and other investigatory information or data relating to any of the following: investigation files; docketed and consent matters; rulemakings, workshops, and other public proceedings, including comments or other materials submitted in such proceedings; assurances of voluntary compliance; advisory opinions.

This system is limited to files and records that are about an individual, and only when the file or record is pulled (“retrieved”) by the name of that individual or other personal identifier (e.g., number, symbol, fingerprint, etc.). As described below, records in this system may become public if they are subject to such disclosure under the FTC’s Rules of Practice.

AUTHORITY FOR MAINTENANCE OF THE SYSTEM:

Federal Trade Commission Act, 15 U.S.C. 41 et seq.; Executive Order 10450.

PURPOSE(S):

To conduct the law enforcement, rulemaking, and advisory responsibilities of the Federal Trade Commission; to make determinations based upon the results of those matters; to report results of investigations to other agencies and authorities for their use in evaluating their programs and imposition of criminal, civil, or administrative sanctions; to report the results of investigations to other agencies or other regulatory bodies for any action deemed appropriate; to make appropriate portions of the records of those matters available to the public (see FTC-I-6, Public Records—FTC); and to maintain records of Commission activities related to those matters, including to make such records available within the FTC for historical, legal research, investigational, and similar purposes (see FTC System VII-6, Document Management and Retrieval System—FTC).

ROUTINE USES OF RECORDS MAINTAINED IN THE SYSTEM, INCLUDING CATEGORIES OF USERS AND THE PURPOSES OF SUCH USES:

Records in this system may be:

(1) Made available or referred to federal, state, local or international government authorities for investigation, possible criminal prosecution, civil action, regulatory order, or other law enforcement purpose;

(2) Referred to outside experts or consultants when considered appropriate by FTC staff to assist in the conduct of agency matters;

(3) Used by Commission contractors with recordkeeping, managerial, and budgeting responsibilities for information management purposes; and

(4) Disclosed on the FTC’s public record under the FTC’s Rules of Practice. See FTC-I-6, Public Records—FTC.

See also Appendix I for other ways that the Privacy Act permits the FTC to use or disclose system records outside the agency.

DISCLOSURE TO CONSUMER REPORTING AGENCIES:

None, except as authorized under 5 U.S.C. 552a(b)(12) when trying to collect a claim of the Government. See Appendix I. For public portions of this system, see the system notice for FTC-I-6.

POLICIES AND PRACTICES FOR STORING, RETRIEVING, ACCESSING, RETAINING, AND DISPOSING OF RECORDS IN THE SYSTEM:

STORAGE:

The FTC maintains these records in various electronic and non-electronic formats and media (e.g., paper, microfilm, CD-ROMs, other digital files). The FTC maintains electronic records in this system using a combination of different databases and applications, rather than maintaining them in a single paper or electronic system.

RETRIEVABILITY:

Records are indexed by respondent’s, participant’s, or FTC staff member’s name; company name; industry investigation title; and FTC matter number.

SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records from submitters in FTC investigations are destroyed or returned to the submitter, if so requested, at the conclusion of the matter, except for those received into the record of any proceeding and any other copies made for official use or that are required to be preserved for their historical or other value under applicable Federal records retention requirements. See 15 U.S.C. 57b-2(b)(5), 16 CFR 4.12. Retention periods for other system records depend on the type of record and the FTC proceeding or matter involved. Records are retained and disposed of under applicable schedules and procedures approved by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual respondent(s) or proposed respondent(s), defendant(s), company records, complainants, informants, witnesses, participants, FTC employees, commercial sources.

EXEMPTIONS CLAIMED FOR THE SYSTEM:

Copies of records contained in this system that have been placed on the FTC public record are available upon request or from the FTC’s Web site, where applicable. See FTC-I-6, Public Records—FTC. However, pursuant to 5 U.S.C. 552a(k)(2), records in this system that are not on the public record are exempt from the requirements of subsections (c)(3), (d), (e)(1), (e)(4) (G), (H), (I), and (f) of 5 U.S.C. 552a, and the corresponding provisions of 16 CFR 4.13. See FTC Rules of Practice 4.13(m), 16 CFR 4.13(m).

FTC-I-2

SYSTEM NAME:

Disciplinary Action Investigatory Files—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC personnel, counsel for parties in investigative or adjudicative proceedings, and others participating in FTC matters who may be subject to investigation for possible improper or unethical conduct.

CATEGORIES OF RECORDS IN THE SYSTEM:

Name, address, employment status, age, date of birth, financial information, credit information, personal history, and records collected and generated during the investigation, which may include correspondence relating to the investigation; internal staff memoranda; copies of subpoenas issued during the investigation, affidavits, statements from witnesses, transcripts of testimony taken in the investigation, and accompanying exhibits; documents, records or copies obtained during the investigation; interview notes, investigative notes, staff working papers, draft materials, and other documents and records relating to the investigation; opening reports, progress reports, and closing reports; and other investigatory information or data relating to alleged violations.

AUTHORITY FOR MAINTENANCE OF THE SYSTEM:

Federal Trade Commission Act, 15 U.S.C. 41 et seq.; Executive Order 10450.

PURPOSE(S):

To conduct disciplinary action investigations; to make determinations based upon the results of the investigations; to report results of investigations to other agencies and authorities for their use in evaluating their programs and imposition of criminal, civil, or administrative sanctions; to report the results of investigations to other agencies or other regulatory bodies for any action deemed appropriate; and to maintain records related to those matters.

ROUTINE USES OF RECORDS MAINTAINED IN THE SYSTEM, INCLUDING CATEGORIES OF USERS AND THE PURPOSES OF SUCH USES:

Records in this system:

(1) May be used to determine whether disciplinary action, including suspension or disbarment from practice before the Commission, is warranted;

(2) May be transferred to the Office of Personnel Management, to a court, or a bar association; and

(3) May be used by personnel of other agencies, courts, or bar associations to whom the matter is referred.

See also Appendix I for other ways that the Privacy Act allows the FTC to use and disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

The FTC generally maintains these records in paper format, although it can also maintain them in other electronic or non-electronic formats and media (e.g., microfilm, CD-ROMs, other digital files).

RETRIEVABILITY:

Records are indexed by individual’s name, company name, industry investigation title, file or docket number.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained and disposed of under applicable schedules and procedures approved by the National Archives and Records Administration.

SYSTEM MANAGER(S) AND ADDRESS:

Deputy General Counsel for Legal Counsel, Office of General Counsel, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual on whom the record is maintained, complainants, informants, witnesses, and Commission personnel having knowledge or providing analysis of matter.

EXEMPTIONS CLAIMED FOR THE SYSTEM:

Pursuant to 5 U.S.C. 552a(k)(2), records in this system are exempt from the requirements of subsections (c)(3), (d), (e)(1), (e)(4) (G), (H), (I), and (f) of 5 U.S.C. 552a. See § 4.13(m) of the FTC Rules of Practice, 16 CFR 4.13(m).

FTC-I-3

SYSTEM NAME:

Informal Advisory Opinion Request and Response Files—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Applicants for informal advisory opinions from FTC staff under § 1.1(b) of the Commission’s Rules of Practice, 16 CFR 1.1(b). (Applicants for formal advisory opinions from the Commission under § 1.1(a) of the Rules of Practice, 16 CFR 1.1(a), are covered by FTC-I-1, Nonpublic Investigational and Other Nonpublic Legal Program Records—FTC.)

CATEGORIES OF RECORDS IN THE SYSTEM:

Name, address, and other contact information of requester; correspondence or other documents about the business and the proposed course of action about which an advisory opinion is being sought; FTC staff responses to requests.

AUTHORITY FOR MAINTENANCE OF THE SYSTEM:

Federal Trade Commission Act, 15 U.S.C. 41 et seq.

PURPOSE(S):

To respond to requests for informal advisory opinions; to maintain records of such requests and the staff’s responses; for use by staff in coordinating and preparing future advisory opinions and assuring the consistency of such opinions; to make records of such requests and staff responses available within the FTC for historical, legal research, investigational, and similar purposes (see FTC-VII-6, Document Management and Retrieval System—FTC); and also to make appropriate portions of such records available to the public (see FTC-I-6, Public Records—FTC).

ROUTINE USES OF RECORDS MAINTAINED IN THE SYSTEM, INCLUDING CATEGORIES OF USERS AND THE PURPOSES OF SUCH USES:

Records in this system may be:

(1) Referred to appropriate federal or state agencies for advice, for law enforcement, or where law enforcement action may be warranted; and

(2) Disclosed on the FTC’s public record under the FTC’s Rules of Practice. see FTC-I-6, Public Records—FTC.

See also Appendix I for other ways that the Privacy Act allows the FTC to use or disclose system records outside the agency.

DISCLOSURE TO CONSUMER REPORTING AGENCIES:

None, except as authorized under 5 U.S.C. 552a(b)(12) when trying to collect a claim of the Government. See Appendix I. For public portions of this system, see the system notice for FTC-I-6.

POLICIES AND PRACTICES FOR STORING, RETRIEVING, ACCESSING, RETAINING, AND DISPOSING OF RECORDS IN THE SYSTEM:

STORAGE:

The FTC generally maintains these records in paper format, although it can also maintain them in other electronic or non-electronic formats and media (e.g., microfilm, CD-ROMs, other digital files).

RETRIEVABILITY:

Records are indexed by name of requesting party.

SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained and disposed of under applicable schedules and procedures approved by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual proprietorship, corporation, or other business organization, counsel seeking or receiving a staff advisory opinion, and FTC employees.

EXEMPTIONS CLAIMED FOR THE SYSTEM:

None.

FTC-I-4

SYSTEM NAME:

Clearance Application and Response Files—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Former members or employees of the Commission who request authorization to appear or participate in a proceeding or investigation, formal or informal, which was pending in any manner in the Commission during that individual’s tenure at the Commission.

CATEGORIES OF RECORDS IN THE SYSTEM:

Name, address, and current employment status of the requesting individual, as well as the nature of any connection with the proceeding or investigation for which clearance is sought; letters responding to those requests indicating the determination of the Commission and outlining reasons for any denial or restriction; internal Commission memoranda evaluating the request and discussing the status of any relevant pending matters.

AUTHORITY FOR MAINTENANCE OF THE SYSTEM:

Federal Trade Commission Act, 15 U.S.C. 41 et seq.

PURPOSE(S):

To evaluate applications; to make determinations in response to those applications; to maintain records of consideration given to applications requesting authorization to appear in Commission proceedings; to ensure no conflict of interest between former members or employees of the Commission and active proceedings; to make records of such applications and the agency’s responses available within the FTC for historical, legal research, investigational, and similar purposes (see FTC-VII-6, Document Management and Retrieval System—FTC); and also to make appropriate portions of such records available to the public (see FTC-I-6, Public Records—FTC).

ROUTINE USES OF RECORDS MAINTAINED IN THE SYSTEM, INCLUDING CATEGORIES OF USERS AND THE PURPOSES OF SUCH USES:

Records in this system may be disclosed on the FTC’s public record under the FTC’s Rules of Practice. See FTC-I-6, Public Records—FTC.

See also Appendix I for other ways that the Privacy Act permits the FTC to use or disclose system records outside the agency.

DISCLOSURE TO CONSUMER REPORTING AGENCIES:

None, except as authorized under 5 U.S.C. 552a(b)(12) when trying to collect a claim of the Government. See Appendix I. For public portions of this system, see the system notice for FTC-I-6.

POLICIES AND PRACTICES FOR STORING, RETRIEVING, ACCESSING, RETAINING, AND DISPOSING OF RECORDS IN THE SYSTEM:

STORAGE:

The FTC generally maintains these records in paper format, although it can also maintain them in other electronic or non-electronic formats and media (e.g., microfilm, CD-ROMs, other digital files).

RETRIEVABILITY:

Indexed by name of the applicant and by the name of the investigation or proceeding.

SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained and disposed of under applicable schedules and procedures approved by the National Archives and Records Administration.

SYSTEM MANAGER(S) AND ADDRESS:

Deputy General Counsel for Legal Counsel, Office of General Counsel, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual on whom the record is maintained and Commission staff who prepare the memoranda and response to request.

EXEMPTIONS CLAIMED FOR THE SYSTEM:

Copies of records contained in this system that have been placed on the FTC public record are available upon request or from the FTC’s Web site, where applicable. See FTC-I-6, Public Records—FTC. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

FTC-I-5

SYSTEM NAME:

Matter Management System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Past and present Commission employees, and other participants or parties in Commission investigations, rulemaking, advisory, and law enforcement matters or proceedings. (Businesses, sole proprietorships, or corporations are not covered by this system.)

CATEGORIES OF RECORDS IN THE SYSTEM:

For records about past or present Commission employees: name; employee identification number; organization name and code; employee work activities; and specific responsibilities and assignments on individual matters. For others: records related to investigatory, rulemaking, advisory opinion and other matters or proceedings, including name and associated matter number; matter status; alleged or potential law violation; and goods or services associated with the proceeding. The records also include brief descriptions or summaries of planned or actual actions or events during an FTC investigation, rulemaking, court case, or other FTC matter or proceeding. The system also includes records of assignments, votes, circulations, or other activities or actions of the FTC’s Commissioners on agency proceedings and matters.

AUTHORITY FOR MAINTENANCE OF THE SYSTEM:

Federal Trade Commission Act, 15 U.S.C. 41 et seq.

PURPOSE(S):

This system, currently known within the FTC as Matter Management System 2 (MMS2), is used to record and track the status or occurrence of planned or actual actions and events that may arise in investigations, rulemakings, or other Commission matters, and to generate status or history reports on these actions, events, and matters for use by Commission management and staff, in combination, as needed, with matter-related data from other systems (e.g., FTC-II-13, Staff Time and Attendance Reporting (STAR) System—FTC). Specific purposes of this system (FTC-I-5) include: to maintain records of employee work and Commission law enforcement activities; to make workload and budget determinations and personnel-related evaluations; to assist in investigative and adjudicative proceedings, enforcement actions, civil penalty proceedings, consideration of compliance reports, issuance of cease and desist orders, advisory opinions, and other Commission matters and proceedings; to refer information compiled in system records to experts and consultants when considered appropriate by Commission staff; and to use those records to properly manage Commission resources.

This system includes a subsystem of records (formerly known as the Office of the Secretary Control and Reporting System or OSCAR) to record and keep track of the status of matters pending for a vote or other review or action before the full Commission (i.e., the five Federal Trade Commissioners). The specific purposes of those records include: to process and control assignments made to individual Commissioners; to coordinate the consideration of and votes on appropriate issues; to assist Commissioners and staff in investigative, adjudicative and rulemaking proceedings, enforcement actions, civil penalty proceedings, consideration of compliance reports, issuance of complaints, negotiation of consent orders, issuance of cease and desist orders, advisory opinions, and other matters before the Commission; and to retain records of the matters before the Commission, the Commission’s deliberations and decisions concerning those matters, and related documents.

ROUTINE USES OF RECORDS MAINTAINED IN THE SYSTEM, INCLUDING CATEGORIES OF USERS AND THE PURPOSES OF SUCH USES:

Records in this system:

(1) May be made available or referred to federal, state, local or international government authorities for investigation, possible criminal prosecution, civil action, regulatory order or other law enforcement purpose; and

(2) May be disclosed on the FTC’s public record under the FTC’s Rules of Practice. See FTC-I-6, Public Records—FTC.

See also Appendix I for other ways that the Privacy Act permits the FTC to use or disclose system records outside the agency.

DISCLOSURE TO CONSUMER REPORTING AGENCIES:

None, except authorized under 5 U.S.C. 552a(b)(12) when trying to collect a claim of the Government. See Appendix I. For public portions of this system, see the system notice for FTC-I-6 (Public Records—FTC).

POLICIES AND PRACTICES FOR STORING, RETRIEVING, ACCESSING, RETAINING, AND DISPOSING OF RECORDS IN THE SYSTEM:

STORAGE:

System records are primarily maintained and accessed electronically. The system can generate electronic or printed status or history reports.

RETRIEVABILITY:

Indexed by Commissioner, staff, or other individual name, employee identification number, matter number, respondent’s or correspondent’s name, company name, industry investigation title, and FTC matter number.

SAFEGUARDS:

For records other than those made public, access is restricted to agency personnel or contractors whose responsibilities require access. Access to nonpublic electronic records is controlled by “user ID” and password combination and/or other appropriate electronic access or network controls (e.g., firewalls). FTC buildings are guarded and monitored by security personnel, cameras, ID checks, and other physical security measures.

RETENTION AND DISPOSAL:

Records are being retained indefinitely, pending approval of a proposed retention and disposal schedule by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual on whom the record is maintained and Commission staff associated with the matter.

EXEMPTIONS CLAIMED FOR THE SYSTEM:

Copies of records contained in this system that have been placed on the FTC public record are available upon request or from the FTC’s Web site, where applicable. See FTC-I-6, Public Records—FTC. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

FTC-I-6

SYSTEM NAME:

Public Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Participants in Commission investigations, rulemaking, advisory, and law enforcement proceedings; parties requesting formal advisory opinions; and consumers who have received redress or who are entitled to redress pursuant to Commission or court orders. (Businesses, sole proprietorships, or corporations are not covered by this system.)

CATEGORIES OF RECORDS IN THE SYSTEM:

Public comments and other records that an individual may submit in an agency matter, where such record is subject to routine inspection and copying under the FTC’s Rules of Practice, 16 CFR 4.9(b). These records include records that either have become or are likely to become the subject of subsequent requests for substantially the same records under the Freedom of Information Act (FOIA). See 5 U.S.C. 552(a)(2)(D). This system (FTC I-6) is limited to files and records that are about an individual, and only when the file or record is pulled (“retrieved”) by the name of that individual or other identifying particular assigned to that individual (e.g., number, symbol, fingerprint, etc.). Public comments received in connection with FTC rulemakings, workshops and consent agreements are also collected on behalf of the FTC and maintained by the Government-wide Federal Docket Management System (FDMS) through a Web site (www.regulations.gov). The Environmental Protection Agency (EPA) manages and operates the FDMS on behalf of the Federal Government, and has published a system of records notice to cover the FDMS, including any records collected on behalf of the FTC through that system. See EPA-GOVT-2 (FDMS).

AUTHORITY FOR MAINTENANCE OF THE SYSTEM:

Federal Trade Commission Act, 15 U.S.C. 41 et seq.; Executive Order 10450; Freedom of Information Act, 5 U.S.C. 552; 16 CFR 4.9.

PURPOSE(S):

To make appropriate portions of the records in FTC matters available to the public; to enable members of the public to review and comment on or respond to such comments; to maintain records of Commission activities related to those matters.

ROUTINE USES OF RECORDS MAINTAINED IN THE SYSTEM, INCLUDING CATEGORIES OF USERS AND THE PURPOSES OF SUCH USES:

Records in this system may be:

(1) Disclosed on the FTC’s public record under the FTC’s Rules of Practice, including by posting copies of such records on the FTC’s Web site, www.ftc.gov, or made public by other electronic or non-electronic means. See 16 CFR 4.9(b); or

(2) Disclosed publicly through the FDMS or for any other routine use set forth in the system of records notice published for that system of records, EPA-GOVT-2 (FDMS), or any successor system notice for that system.

See also Appendix I for other ways that the Privacy Act permits the FTC to use or disclose system records outside the agency.

DISCLOSURE TO CONSUMER REPORTING AGENCIES:

Public records are not routinely referred to consumer reporting agencies, but because they are publicly accessible, they can be searched and used by any person or entity outside the FTC, which could include a consumer reporting agency. Disclosure is also authorized under 5 U.S.C. 552a(b)(12) when trying to collect a claim of the Government. See Appendix I.

POLICIES AND PRACTICES FOR STORING, RETRIEVING, ACCESSING, RETAINING, AND DISPOSING OF RECORDS IN THE SYSTEM:

STORAGE:

The FTC maintains these records in various electronic and non-electronic formats and media (e.g., paper, microfilm, CD-ROMs, other digital files). The FTC maintains electronic records in this system using a combination of different databases and applications, rather than maintaining them in a single electronic system.

RETRIEVABILITY:

Indexed by respondent’s, participant’s, or FTC staff member’s name; company name; industry investigation title; and FTC matter number.

SAFEGUARDS:

The FTC’s Web sites are secured and monitored to protect against unauthorized deletion or alteration of records posted on such sites. Access to the official record copy of such records is restricted, where appropriate, to agency personnel or contractors whose responsibilities require access.

RETENTION AND DISPOSAL:

Records are retained and disposed of under applicable schedules and procedures approved by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual respondent(s) or proposed respondent(s), company records, complainants, informants, witnesses, participants, and FTC employees.

EXEMPTIONS CLAIMED FOR THE SYSTEM:

None.

FTC-I-7

SYSTEM NAME:

Office of Inspector General Investigative Files—FTC.

SECURITY CLASSIFICATION:

None.

SYSTEM LOCATION:

Office of Inspector General (OIG), Federal Trade Commission, 600 Pennsylvania Avenue, NW., Washington, DC 20580. See Appendix III for other locations where records may be maintained or accessed.

CATEGORIES OF INDIVIDUALS COVERED BY THE SYSTEM:

Subjects of OIG investigations relating to the programs and operations of the Federal Trade Commission. Subject individuals include, but are not limited to, current and former employees; current and former agents or employees of contractors or subcontractors, as well as current and former contractors and subcontractors in their personal capacity, where applicable; and other individuals whose actions affect the FTC, its programs or operations.

CATEGORIES OF RECORDS IN THE SYSTEM:

Correspondence relating to the investigation; internal staff memoranda; copies of subpoenas issued during the investigation, affidavits, statements from witnesses, transcripts of testimony taken in the investigation and accompanying exhibits; documents, records or copies obtained during the investigation; interview notes, documents and records relating to the investigation; opening reports, information or data relating to alleged or suspected criminal, civil or administrative violations or similar wrongdoing by subject individuals and final reports of investigation.

AUTHORITY FOR MAINTENANCE OF THE SYSTEM:

Inspector General Act Amendments of 1988, Pub. L. 100-504, amending the Inspector General Act of 1978, Pub. L. 95-452, 5 U.S.C. app.

PURPOSE(S):

To document the conduct and outcome of investigations; to report results of investigations to other components of the FTC or other agencies and authorities for their use in evaluating their programs and imposition of criminal, civil or administrative sanctions; to report the results of investigations to other agencies or other regulatory bodies for an action deemed appropriate and for retaining sufficient information to fulfill reporting requirements; and to maintain records related to the activities of the Office of the Inspector General.

ROUTINE USES OF RECORDS MAINTAINED IN THE SYSTEM, INCLUDING CATEGORIES OF USERS AND THE PURPOSES OF SUCH USES:

Records in this system may be:

(1) Disclosed to agencies, offices, or establishments of the executive, legislative, or judicial branches of the federal or state government—

(a) Where such agency, office, or establishment has an interest in the individual for employment purposes, including a security clearance or determination as to access to classified information, and needs to evaluate the individual's qualifications, suitability, and loyalty to the United States Government, or

(b) Where such agency, office, or establishment conducts an investigation of the individual for the purposes of granting a security clearance, or for making a determination of qualifications, suitability, or loyalty to the United States Government, or access to classified information or restricted areas, or

(c) Where the records or information in those records are relevant and necessary to a decision with regard to the hiring or retention of an employee or disciplinary or other administrative action concerning an employee, or

(d) Where disclosure is requested in connection with the award of a contract or other determination relating to a government procurement, or the issuance of a license, grant, or other benefit by the requesting agency, to the extent that the record is relevant and necessary to the requesting agency’s decision on the matter, including, but not limited to, disclosure to any Federal agency responsible for considering suspension or debarment actions where such record would be germane to a determination of the propriety or necessity of such action, or disclosure to the United States General Accountability Office, the General Services Administration Board of Contract Appeals, or any other federal contract board of appeals in cases relating to an agency procurement;

(2) Disclosed to the Office of Personnel Management, the Office of Government Ethics, the Merit Systems Protection Board, the Office of the Special Counsel, the Equal Employment Opportunity Commission, or the Federal Labor Relations Authority or its General Counsel, of records or portions thereof relevant and necessary to carrying out their authorized functions, such as, but not limited to, rendering advice requested by the OIG, investigations of alleged or prohibited personnel practices (including unfair labor or discriminatory practices), appeals before official agencies, offices, panels or boards, and authorized studies or review of civil service or merit systems or affirmative action programs;

(3) Disclosed to independent auditors or other private firms with which the Office of the Inspector General has contracted to carry out an independent audit or investigation, or to analyze, collate, aggregate or otherwise refine data collected in the system of records, subject to the requirement that such contractors shall maintain Privacy Act safeguards with respect to such records;

(4) Disclosed to a direct recipient of federal funds such as a contractor, where such record reflects serious inadequacies with a recipient’s personnel and disclosure of the record is for purposes of permitting a recipient to take corrective action beneficial to the Government;

(5) Disclosed to any official charged with the responsibility to conduct qualitative assessment reviews of internal safeguards and management procedures employed in investigative operations. This disclosure category includes members of the President’s Council on Integrity and Efficiency, Executive Council on Integrity and Efficiency and officials and administrative staff within their investigative chain of command, as well as authorized officials of the Department of Justice and the Federal Bureau of Investigation;

(6) Disclosed to members of the President’s Council on Integrity and Efficiency and the Executive Council on Integrity and Efficiency for the preparation of reports to the President and Congress on the activities of the Inspectors General; and

(7) Disclosed to complainants and/or victims to the extent necessary to provide such persons with information and explanations concerning the progress and/or results of the investigation or case arising from the matters of which they complained and/or which they were a victim.

See also Appendix I for other ways that the Privacy Act permits the FTC to use or disclose system records outside the agency.

DISCLOSURE TO CONSUMER REPORTING AGENCIES:

Disclosures may be made from this system, pursuant to 5 U.S.C. 552a(b)(12), to consumer reporting agencies as defined in the Fair Credit Reporting Act, 15 U.S.C. 1681a(f), or the Federal Claims Collection Act of 1966, 31 U.S.C. 3701(a)(3), in accordance with 31 U.S.C. 3711(e).

POLICIES AND PRACTICES FOR STORING, RETRIEVING, ACCESSING, RETAINING, AND DISPOSING OF RECORDS IN THE SYSTEM:

STORAGE:

The FTC maintains system records in various electronic and non-electronic formats and media. The OIG Investigative Files consist of paper records maintained in file folders, cassette tapes and CD-ROMs containing audio recordings of investigative interviews, and data maintained on computer diskettes and hard drives. The folders, cassette tapes, CD-ROMs and diskettes are stored in file cabinets in the OIG. The hard drives are retained in the OIG safe.

RETRIEVABILITY:

The records are retrieved by the name of the subject of the investigation or by a unique control number assigned to each investigation.

SAFEGUARDS:

Access is restricted to agency personnel or contractors whose responsibilities require access. Paper records are maintained in lockable rooms or file cabinets, which are kept locked during non-duty hours. Records in file folders are retained as long as needed and then destroyed by shredding or burning. Computer disks and CD-ROMs are cleared, retired or destroyed when no longer useful. Entries on electronic media are deleted or erased when no longer needed. To the extent records or portions thereof are incorporated into e-mails or other electronic communications, access to such electronic records is controlled by “user ID” and password combination and/or other electronic access or network controls (e.g., firewalls). FTC buildings are guarded and monitored by security personnel, cameras, ID checks, and other physical security measures.

RETENTION AND DISPOSAL:

Records are retained and destroyed in accordance with schedules and procedures issues or approved by the National Archives and Records Administration. Cases that are unusually significant for documenting major violations of criminal law or ethical standards are offered to the National Archives for permanent retention.

SYSTEM MANAGER(S) AND ADDRESS:

Inspector General, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Employees or other individuals on whom the record is maintained, non-target witnesses, FTC and non-FTC records, to the extent necessary to carry out OIG investigations authorized by 5 U.S.C. app.

EXEMPTIONS CLAIMED FOR THE SYSTEM:

Pursuant to 5 U.S.C. 552a(j)(2), records in this system are exempt from the provisions of 5 U.S.C. 552(a), except subsections (b), (c)(1) and (2), (e)(4)(A) through (F), (e)(6), (7), (9), (10) and (11) and (i) and corresponding provisions of 16 CFR 4.13, to the extent that a record in the system of records was compiled for criminal law enforcement purposes.

Pursuant to 5 U.S.C. 552a(k)(2), the system is exempt from 5 U.S.C. 552a(c)(3), (d), (e)(1), (e)(4)(G), (H) and (I) and (f) and the corresponding provisions of 16 CFR 4.13, to the extent the system of records consists of investigatory material compiled for law enforcement purposes, other than material within the scope of the exemption at 5 U.S.C. 552a(j)(2). See 16 CFR 4.13(m).

FTC-I-8

SYSTEM NAME:

Stenographic Reporting Services Request System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC staff who have requested stenographic reporting services for depositions or testimony in FTC proceedings; other FTC staff or contractors involved in processing the request or providing such services; witnesses or other individuals who are deposed or provide testimony at hearings or proceedings in which stenographic reporting services are used. (Businesses, sole proprietorships, or corporations are not covered by this system.)

CATEGORIES OF RECORDS IN THE SYSTEM:

Name, phone, mail drop, and FTC organization of the individual requesting stenographic reporting services and other information about the service request, including: date of request; matter number and name; name of managing attorney; time and location where stenographic reporting services are to be provided; name and phone number of contact person at location; name of witness/deponent; type of deposition, hearing, or proceeding; court name and civil action number, if applicable; recording devices to be used; other services requested (i.e., notary, witness or deponent signature); method and timing of performance and delivery; other comments or instructions; name of stenographic reporting company to be used and contact person; name of FTC staff person processing the request; hearing or service schedule changes, if any.

AUTHORITY FOR MAINTENANCE OF THE SYSTEM:

Federal Trade Commission Act, 15 U.S.C. 41 et seq.

PURPOSE(S):

To track and fulfill FTC staff requests for stenographic services from the agency’s stenographic reporting service contractors; to schedule services with such contractors; to provide information necessary for the contractor to render such services; and for other internal administrative purposes, including to ensure that stenographic services are being properly allocated and authorized, to provide statistical data on service usage for agency managerial and budget purposes, and as source for transcript dates and times for incorporation as appropriate into FTC-I-5 (Matter Management System—FTC) and FTC-FTC-VII-6 (Document Management and Retrieval System—FTC).

ROUTINE USES OF RECORDS MAINTAINED IN THE SYSTEM, INCLUDING CATEGORIES OF USERS AND THE PURPOSES OF SUCH USES:

Records in this system may be:

(1) Disclosed to and used by FTC contractors for purposes of scheduling and providing FTC staff with stenographic reporting services for depositions and hearings; and

(2) Made part of public record proceedings, to the extent appropriate and necessary to identify the individual being deposed or providing testimony in a hearing, when the hearing is a matter of public record. See FTC-I-6, Public Records—FTC.

See also Appendix I for other ways that the Privacy Act permits the FTC to use or disclose system records outside the agency.

DISCLOSURE TO CONSUMER REPORTING AGENCIES:

None, except as authorized under 5 U.S.C. 552a(b)(12) when trying to collect a claim of the Government. See Appendix I. For public portions of this system, see the system notice for FTC-I-6.

POLICIES AND PRACTICES FOR STORING, RETRIEVING, ACCESSING, RETAINING, AND DISPOSING OF RECORDS IN THE SYSTEM:

STORAGE:

Service requests are submitted in paper and electronic format, and data are entered and maintained electronically in a structured database on an internal agency server, and as needed on CD-ROM and/or external hard drives.

RETRIEVABILITY:

Data in the system can be retrieved electronically by the name of the individual being deposed or providing testimony, the individual requesting stenographic services, the managing attorney, the contact person at location where service is to be provided, and the staff person processing the service request, the matter number of the event, or by other data entered in and searchable in the system.

SAFEGUARDS:

For records other than those made public, access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained indefinitely, pending approval of an applicable retention and disposal schedule by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual on whom the record is maintained and Commission staff associated with the matter.

EXEMPTIONS CLAIMED FOR THE SYSTEM:

Copies of records contained in this system that have been placed on the FTC public record are available upon request or from the FTC’s Web site, where applicable. See FTC-I-6, Public Records—FTC. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

II. FTC Personnel Systems of Records

FTC-II-1

SYSTEM NAME:

General Personnel Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current Federal Trade Commission employees.

CATEGORIES OF RECORDS IN THE SYSTEM:

Each category of records may include identifying information such as name(s), date of birth, home residence, mailing address, Social Security number, and home telephone number. This system includes, but is not limited to, the contents of the Official Personnel Folder (OPF) maintained by the FTC’s Human Resources Management Office (HRMO) and described in the United States Office of Personnel Management (OPM) Guide to Personnel Recordkeeping and in OPM’s Government-wide system of records notice for this system, OPM/GOVT-1. (Non-duplicative personnel records maintained by FTC employee managers in other FTC offices are covered by FTC-II-2, Unofficial Personnel Records—FTC.) Records in this system (FTC-II-1) include copies of current employees’ applications for employment, documentation supporting appointments and awards, benefits records (health insurance, life insurance, retirement information, and Thrift Savings Plan information), investigative process documents, personnel actions, other personnel documents, changes in filing requirements, and training documents. Other records include:

a. Records reflecting work experience, educational level achieved, specialized education or training obtained outside of Federal service.

b. Records reflecting Federal service and documenting work experience and specialized education or training received while employed. Such records contain information about past and present positions held; grades; salaries; and duty station locations; commendations, awards, or other data reflecting special recognition of an employee’s performance; and notices of all personnel actions, such as appointments, transfers, reassignments, details, promotions, demotions, reductions in force, resignations, separations, suspensions, approval of disability retirement applications, retirement and removals.

c. Records relating to participation in the Federal Employees’ Group Life Insurance Program and Federal Employees Health Benefits Program.

d. Records relating to an Intergovernmental Personnel Act assignment or Federal-private exchange program.

e. Records relating to participation in an agency Federal Executive or SES Candidate Development Program.

f. Records relating to Government-sponsored training or participation in the agency’s Upward Mobility Program or other personnel programs designed to broaden an employee's work experiences and for purposes of advancement (e.g., an administrative intern program).

g. Records connected with the Senior Executive Service (SES), for use in making studies and analyses of the SES, preparing reports, and in making decisions affecting incumbents of these positions, e.g., relating to sabbatical leave programs, training, reassignments, and details, that are perhaps unique to the SES and which may or may not be filed in the employee’s OPF. These records may also serve as basis for reports submitted to OMB’s Executive Personnel and Management Development Group for purposes of implementing the Office’s oversight responsibilities concerning the SES.

h. Records on an employee’s activities on behalf of the recognized labor organization representing agency employees, including accounting of official time spent and documentation in support of per diem and travel expenses.

i. To the extent that the records listed here are also maintained in the agency automated personnel or microform records system, those versions of the above records are considered to be covered by this system notice. Any additional copies of these records (excluding performance ratings of record and conduct-related documents maintained by first-line supervisors and managers covered by FTC-II-2) maintained by agencies at field or administrative offices remote from where the original records exist are considered part of this system.

j. Records relating to designations for lump sum death benefits.

k. Records relating to classified information nondisclosure agreements.

l. Records relating to the Thrift Savings Plan (TSP) concerning the starting, changing, or stopping of contributions to the TSP as well as the how the individual wants the investments to be made in the various TSP Funds.

m. Copies of records contained in the Enterprise Human Resources Integration (EHRI) data warehouse (including the Central Employee Record, the Business Intelligence file that provide resources to obtain career summaries, and the electronic Official Personnel Folder (eOPF)) maintained by OPM. These data elements include many of the above records along with additional human resources information such as training, payroll and performance information from other OPM and agency systems of records. A definitive list of EHRI data elements is contained in OPM’s Guide to Human Resources Reporting and The Guide to Personnel Data Standards.

n. Emergency contact information for the employee (see, e.g., FTC Form 75), which is kept on the left side of the OPF.

AUTHORITY FOR MAINTENANCE OF THE SYSTEM:

5 U.S.C. 1302, 2951, 3301, 3372, 4118, 8347; Executive Orders 9397, 9830, and 12107.

PURPOSE(S):

The Official Personnel Folder (OPF) and other general personnel records are the official repository of the records, reports of personnel actions, and the documents required in connection with those actions effected during an employee’s Federal service. The personnel action reports and other documents, some of which are filed as long term records in the OPF, give legal force and effect to personnel transactions and establish employee rights and benefits under pertinent laws and regulations governing Federal employment.

The OPF is maintained for the period of the employee’s service in the Commission and is then transferred to the National Personnel Records Center for storage or, as appropriate, to the next employing Federal agency. Other records are either retained at the agency for various lengths of time in accordance with National Archives and Records Administration records schedules or destroyed when they have served their purpose or when the employee leaves the agency. They provide the basic source of factual data about a person’s Federal employment while in the service and after his or her separation. Records in this system have various uses including: screening qualifications of employees; determining status, eligibility, and employee's rights and benefits under pertinent laws and regulations governing Federal employment; computing length of service; and for other information needed in providing personnel services. These records and their automated or microformed equivalents may also be used to locate individuals for personnel research.

Temporary documents on the left side of the OPF may lead (or have led) to a formal action, but do not constitute a record of it, nor make a substantial contribution to the employee's long term record.

ROUTINE USES OF RECORDS MAINTAINED IN THE SYSTEM, INCLUDING CATEGORIES OF USERS AND THE PURPOSES OF SUCH USES:

(1) Performance Related Uses

(a) To disclose information to any source from which additional information is requested (to the extent necessary to identify the individual, inform the source of the purpose(s) of the request, and to identify the type of information requested), where necessary to obtain information relevant to an agency decision concerning the hiring or retention of an employee, the issuance of a security clearance, the conducting of a security or suitability investigation of an individual, the classifying of jobs, the letting of a contract, or the issuance of a license, grant, or other benefit;

(b) To disclose to an agency in the executive, legislative, or judicial branch, or the District of Columbia Government in response to its request, or at the initiation of the agency maintaining the records, information in connection with the hiring of an employee; the issuance of a security clearance; the conducting of a security or suitability investigation of an individual; the classifying of jobs; the letting of a contract; the issuance of a license, grant, or other benefit by the requesting agency; or the lawful statutory, administrative, or investigative purpose of the agency to the extent that the information is relevant and necessary to the requesting agency’s decision on the matter;

(c) By the agency or by OPM to locate individuals for personnel research or survey response, and in the production of summary descriptive statistics and analytical studies in support of the function for which the records are collected and maintained, or for related work force studies. While published statistics and studies do not contain individual identifiers, in some instances the selection of elements of data included in the study may be structured in such a way as to make the data individually identifiable by inference;

(d) To provide an official of another Federal agency information needed in the performance of official duties related to reconciling or reconstructing data files, in support of the functions for which the records were collected and maintained;

(e) To disclose information to officials of the Merit Systems Protection Board, including the Office of the Special Counsel, when requested in connection with appeals, special studies of the civil service and other merit systems, review of Office rules and regulations, investigations of alleged or prohibited personnel practices, and such other functions, promulgated in 5 U.S.C. 1205 and 1206, or as may be authorized by law;

(f) To disclose information to the Equal Employment Opportunity Commission when requested in connection with investigations into alleged or possible discrimination practices in the Federal sector, examination of Federal affirmative employment programs, compliance by Federal agencies with the Uniform Guidelines on Employee Selection Procedures, or other functions vested in the Commission by the President’s Reorganization Plan No. 1 of 1978;

(g) To disclose to prospective non-Federal employers, the following information about a specifically identified current or former Federal employee:

(i) Tenure of employment;

(ii) Civil service status;

(iii) Length of service in the agency and the Government; and

(iv) When separated, the date and nature of action as shown on the Notification of Personnel Action, Standard Form 50 (or authorized exception);

(h) To consider employees for recognition through quality step increases, and to publicize those granted. This may include disclosure to other public and private organizations, including news media, which grant or publicize employee recognition;

(i) To consider and select employees for incentive awards and other honors and to publicize those granted. This may include disclosure to other public and private organizations, including news media, which grant or publicize employee awards or honors;

(j) To disclose information to any member of the agency’s Performance Review Board or other board or panel (e.g., one convened to select or review nominees for awards of merit pay increases), when the member is not an official of the employing agency; information would then be used for the purposes of approving or recommending selection of candidates for executive development of SES candidate programs, issuing a performance appraisal rating, issuing performance awards, nominating for Meritorious and Distinguished Executive ranks, and removal, reduction-in-grade, and other personnel actions based on performance;

(k) By agency officials for purposes of review in connection with appointments, transfers, promotions, reassignments, adverse actions, disciplinary actions, and determinations of the qualifications of an individual;

(l) By the Office of Personnel Management for purposes of making a decision when a Federal employee or former Federal employee is questioning the validity of a specific document in an individual’s record; and

(m) As a data source for management information for promotion of summary descriptive statistics and analytical studies in support of the related personnel management functions of human resource studies; may also be utilized to locate specific individuals for personnel research or other personnel management functions;

(2) Training/Education Related Uses

(a) To disclose information to Government training facilities (Federal, State, and local) and to non-Government training facilities (private vendors of training courses or programs, private schools, etc.) for training purposes; and

(b) To disclose information to educational institutions on appointment of a recent graduate to a position in the Federal service, and to provide college and university officials with information about their students working under the Cooperative Education Volunteer Service, or other similar programs where necessary to a student’s obtaining credit for the experience gained;

(3) Retirement/Insurance/Health Benefits Related Uses

(a) To disclose information to: the Department of Labor, Department of Veterans Affairs, Social Security Administration, Department of Defense, Federal agencies that have special civilian employee retirement programs; or a national, State, county, municipal, or other publicly recognized charitable or income security administration agency (e.g., State unemployment compensation agencies) where necessary to adjudicate a claim under the retirement, insurance or health benefits programs of the Office of Personnel Management or an agency cited above, or to an agency to conduct an analytical study or audit of benefits being paid under such programs;

(b) To disclose to the Office of Federal Employees Group Life Insurance information necessary to verify election, declination, or waiver of regular and/or optional life insurance coverage or eligibility for payment of a claim for life insurance;

(c) To disclose to health insurance carriers contracting with the Office of Personnel Management to provide a health benefits plan under the Federal Employees Health Benefits Program, information necessary to identify enrollment in a plan, to verify eligibility for payment of a claim for health benefits, or to carry out the coordination or audit of benefit provisions of such contracts;

(d) When an individual to whom a record pertains is mentally incompetent or under other legal disability, information in the individual’s record may be disclosed to any person who is responsible for the care of the individual, to the extent necessary to assure payment of benefits to which the individual is entitled;

(e) To disclose to the agency-appointed representative of an employee all notices, determinations, decisions, or other written communications issued to the employee, in connection with an examination ordered by the agency under:

(i) Fitness-for-duty examination procedures; or

(ii) Agency-filed disability retirement procedures;

(f) To disclose to a requesting agency, organization, or individual the home address and other relevant information concerning those individuals who, it is reasonably believed, might have contracted an illness, been exposed to, or suffered from a health hazard while employed in the Federal work force; and

(g) To disclose information to the Department of Defense, National Oceanic and Atmospheric Administration, and the United States Coast Guard needed to effect any adjustments in retired or retained pay required by the dual compensation provisions of 5 U.S.C. 5532;

(4) Labor Relations Related Uses

(a) To disclose information to the Federal Labor Relations Authority (including its General Counsel) when requested in connection with investigation and resolution of allegations of unfair labor practices, in connection with the resolution of exceptions to arbitrator’s awards where a question of material fact is raised and matters before the Federal Service Impasses Panel; and

(b) To disclose information to officials of labor organizations recognized under 5 U.S.C. 71 et seq. when relevant and necessary to their duties of exclusive representation concerning personnel policies, practices, and matters affecting working conditions; and

(5) Miscellaneous Uses

(a) To provide data to OPM for inclusion in the automated Center Personnel Data File;

(b) To be disclosed for any other routine use set forth in the Government-wide system of records notice published for this system by OPM, see OPM/GOVT-1, or any successor OPM system notice that may be published for this system (visit www.opm.gov for more information);

(c) To disclose information to a Federal, state, or local agency for determination of an individual’s entitlement to benefits in connection with Federal Housing Administration programs; and

(d) To locate individuals for personnel research or survey response, and in the production of summary descriptive statistics and analytical studies in support of the function for which the records are collected and maintained, or for related work force studies. While published statistics and studies do not contain individual identifiers, in some instances, the selection of elements of data included in the study may be structured in such a way as to make the data individually identifiable by inference.

See also Appendix I for other ways that the Privacy Act permits the FTC to disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Records may be maintained on standard legal-size and letter-size paper, and in electronic storage media such as personnel system databases and .pdf forms.

RETRIEVABILITY:

Records are indexed by employee name.

SAFEGUARDS:

Access is restricted to agency personnel or contractors whose responsibilities require access. Paper records are maintained in lockable rooms or file cabinets. (In addition, FTC HRMO offices are in a locked suite separate from other FTC offices not generally accessible to the public or other FTC staff.) Access to electronic records is controlled by “user ID” and password combinations and/or other appropriate electronic access or network controls (e.g., firewalls). FTC buildings are guarded and monitored by security personnel, cameras, ID checks, and other physical security measures.

RETENTION AND DISPOSAL:

The Official Personnel Folder (OPF) is retained by the Commission as long as the individual is employed with the Commission. The Commission maintains all OPFs according to the most current version of OPM’s Guide to Personnel Recordkeeping. When the individual transfers to any Federal agency or to another appointing office, the OPF, with long-term medical records, if any, inserted in a separate envelope, is sent to that agency or office. Other medical records covered by this system (i.e., fitness-for-duty examinations) are considered temporary in nature. Such records, when not submitted to the OPM for retention in a disability retirement file (or submitted, but OPM), shall be destroyed no later than 6 months after closing action on the case or sooner at the discretion of the Commission. Other personnel-related medical records are covered by a separate OPM Privacy Act system of records notice, OPM/GOVT-10.

Long-term records. Within 90 days after the individual separates from the Federal service, the OPF is sent to the National Personnel Records Center for long-term storage. In the case of administrative need, a retired employee, or an employee who dies in service, the OPF is sent to the Records Center within 120 days. Destruction of the OPF is in accordance with General Records Schedule GRS-1. Folders are retained for 65 years from date of last separation from Federal employment.

Other records. These records are retained for varying periods of time. Generally they are maintained for a minimum of 1 year or until the employee transfers or separates.

Some records within the Commission’s automated personnel records may be retained indefinitely as a basis for longitudinal work history statistical studies. After the disposition date in GRS-1, such records may not be used in making decisions concerning employees.

SYSTEM MANAGER(S) AND ADDRESS:

Director, Human Resources Management Office, Federal Trade Commission, 600 Pennsylvania Avenue, NW., Washington, DC 20580.

NOTIFICATION PROCEDURE; RECORD ACCESS PROCEDURES; AND CONTESTING RECORD PROCEDURES:

See Appendix II. Current FTC employees may also request access to their records directly through their designated FTC HRMO contact or managers, as applicable, and may be required to complete a written request form and to show identification to obtain access to their records.

Former FTC employees subsequently employed by another Federal agency should contact the personnel office for their current Federal employer. Former employees who have left Federal service and want access to their official personnel records in storage should contact the National Personnel Records Center, 111 Winnebago Street, St. Louis, MO 63118-4126.

RECORD SOURCE CATEGORIES:

Individual to whom the record applies and agency employees.

EXEMPTIONS CLAIMED FOR THE SYSTEM:

None.

FTC-II-2

SYSTEM NAME:

Unofficial Personnel Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current and former Commission employees, consultants, and contractors.

CATEGORIES OF RECORDS IN THE SYSTEM:

This system of records contains information or documents about the educational background, employment, and work history of individuals. The types of records maintained vary with each supervisor and Commission unit. Each supervisor may maintain some or all of the following records: written notes or memoranda on employee conduct and performance (i.e., employee evaluation, employee forms, leave records, work assignments, or disciplinary problems), including performance-related records described in the Government-wide system of records notice published by the Office of Personnel Management (OPM) for this system of records, OPM/GOVT-2, or any successor OPM system notice that may be published for this system. There may be records relating to employee work schedules, consideration given to applicants for positions with the FTC, and “emergency contact” information collected by various offices informally.

AUTHORITY FOR MAINTENANCE OF THE SYSTEM:

5 U.S.C. 1104, 3321, 4301-4305; 4311-4315; 5405, 6101-6106; 6301-6326; 6331-6340; 6361-6373; 6381-6387; 6391; 7301-7353; 5 U.S.C. Chapter 75; and Executive Order 12107.

PURPOSE(S):

To assist Commission managers and supervisors in making work assignment, evaluation, and other types of decisions related to the employees of the Federal Trade Commission; to assist in evaluating performance, preparing promotion and award recommendations, preparing informal or formal disciplinary actions, approving leave, coordinating schedules, and preparing news releases; to assist supervisors in the interviewing, evaluation, and selection process when filling position vacancies; and to maintain records of those considerations and actions.

ROUTINE USES OF RECORDS MAINTAINED IN THE SYSTEM, INCLUDING CATEGORIES OF USERS AND THE PURPOSES OF SUCH USES:

(1) Records identifying the individual’s work schedule may be disclosed to that extent and for that purpose to others within or outside the agency;

(2) Records may be referred to the Office of Personnel Management concerning pay benefits, retirement deductions, and other information necessary for OPM to carry out its government-wide personnel management functions; and

(3) Records may also be used or disclosed for any of the purposes or routine uses set forth in the Government-wide systems of records notice published by OPM for this system of records, OPM/GOVT-2, or any successor OPM system notice that may be published for this system. (Visit www.opm.gov for more information.)

See also Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Maintained in file folders, envelopes and in electronic formats.

RETRIEVABILITY:

Indexed by individual’s name.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

A detailed retention schedule for employee performance-related records; which include ratings of record, supporting documentation for those ratings, and any other performance-related material required by agency performance appraisal system, is set forth in OPM/GOVT-2. Additional information is set forth in OPM’s Guide to Personnel Recordkeeping for Federal agencies.

Records are generally retained in accordance with GRS-1, items 18 (supervisory personnel files) and 23 (employee performance records):

(1) Certain records from supervisors’ personnel files, including correspondence, forms, authorizations, requests for personnel action and other materials on individual employees are destroyed when superseded or obsolete. Records for former employees are destroyed within one year after separation or transfer.

(2) For employee performance-related files, the records for non-Senior Executive Service employees are to be destroyed when 4 years old or no longer needed, as set forth in GRS-1, item 23; for Senior Executive Service (SES) employees, when 5 years old or no longer needed, as set forth in GRS-1, item 23.

Generally, performance records for former employees are retained no longer than one year after the employee leaves. Records on former SES employees may be retained up to 5 years under 5 U.S.C. 4314.

Where any of these records are needed in connection with an administrative, quasi-judicial or judicial proceeding, they may be retained as needed beyond the retention schedules of GRS-1.

SYSTEM MANAGER(S) AND ADDRESS:

Director, Human Resources Management Office (HRMO), Federal Trade Commission, 600 Pennsylvania Avenue, NW., Washington, DC 20580.

NOTIFICATION PROCEDURE; RECORD ACCESS PROCEDURES; AND CONTESTING RECORD PROCEDURES:

See Appendix II. Current FTC employees may also request access to their records directly through their designated FTC HRMO contact or managers, as applicable, and may be required to complete a written request form and to show identification to obtain access to their records.

Former FTC employees subsequently employed by another Federal agency should contact the personnel office for their current Federal employer. Former employees who have left Federal service and want access to their official personnel records in storage should contact the National Personnel Records Center, 111 Winnebago Street, St. Louis, MO 63118-4126.

RECORD SOURCE CATEGORIES:

Individual to whom the record pertains; individual’s supervisors; managers; Performance Review Boards; Executive Resource Boards; and other interested parties.

EXEMPTIONS CLAIMED FOR THE SYSTEM:

None.

FTC-II-3

SYSTEM NAME:

Workers’ Compensation—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals (i.e., FTC employees) and/or their survivors who file claims seeking benefits under the Federal Employees’ Compensation Act (FECA) for injuries sustained by the individual while in the performance of duty. The FECA applies to all civilian Federal employees, including various classes of persons whom provide or have provided personal service to the government of the United States.

CATEGORIES OF RECORDS IN THE SYSTEM:

This system may contain the following kinds of records: names; Social Security numbers; reports of injury by the employee and/or the Commission; claim forms filed by or on behalf of injured employees or their survivors seeking benefits under the FECA; forms authorizing medical care and treatment; other medical records and reports; bills and other payment records; compensation payment records; copies of formal orders for or against the payment of benefits; copies of transcripts of hearings conducted; and any other medical, employment, or personal information submitted or gathered in connection with the claim. The system may also contain information relating to dates of birth, marriage, divorce, and death; notes of telephone conversations conducted in connection with the claim; information relating to vocational and/or medical rehabilitation plans and progress reports; records relating to court proceedings, insurance, banking and employment; articles from newspapers and other publications; information relating to other benefits (financial and otherwise) the claimant may be entitled to; and information received from various investigative agencies concerning possible violations of Federal civil or criminal law. The system may also contain consumer credit reports on individuals indebted to the United States, information relating to the debtor’s assets, liabilities, income and expenses, personal financial statements, correspondence to and from the debtor, information relating to the location of the debtor, and other records and reports relating to the implementation of the Federal Claims Collection Act (as amended), including investigative reports or administrative review matters. Individual records listed here are included in a claim file only insofar as they may be pertinent or applicable to the employee or beneficiary.

This system includes only claims-related records maintained by the FTC. Claims are transmitted the United States Department of Labor (DOL) for processing and adjudication. Data maintained by DOL by the Government-wide system of records notice published by DOL for its system of records, see DOL/GOVT-1 (Office of Workers’ Compensation Programs, Federal Employees’ Compensation Act File) or any successor DOL system notice that may be published for that system.

AUTHORITY FOR MAINTENANCE OF THE SYSTEM:

Federal Employees Compensation Act (FECA), 5 U.S.C. 8101 et seq., 20 CFR 1.1 et seq.

PURPOSE(S):

To consider claims filed by employees and/or their survivors for compensation under FECA based on work-related injuries, and to maintain records concerning such claims. The FECA establishes the system for processing and adjudicating claims that the Commission employee and/or the Commission and other covered individuals file with DOL’s Office of Workers’ Compensation Programs, seeking monetary, medical and similar benefits for injuries or deaths sustained by the individual while in the performance of duty. The records maintained in this system are created as a result of and are necessary to this process. The records provide information and verification about the individual’s employment-related injury and the resulting disabilities and/or impairments, if any, on which decisions awarding or denying benefits provided under the FECA must be based.

ROUTINE USES OF RECORDS MAINTAINED IN THE SYSTEM, INCLUDING CATEGORIES OF USERS AND THE PURPOSES OF SUCH USES:

Records in this system may be:

(1) Disclosed in response to queries from Department of Labor, Office of Workers Compensation Programs, supervisors and employees about compensation claims; and

(2) Used or disclosed for any purpose or routine use set forth in the system of records notice published by DOL for this system of records, DOL/GOVT-1 (Office of Workers’ Compensation Programs, Federal Employees’ Compensation Act File), or any successor DOL system notice that may be published for this system.

See also Appendix I for other ways that the Privacy Act permits the FTC to use or disclose system records outside the agency.

DISCLOSURE TO CONSUMER REPORTING AGENCIES:

In accordance with DOL/GOVT-1, the amount, status and history of overdue debts, the name and address, Social Security number (or other taxpayer identification number, if any), and other information necessary to establish the identity of a debtor, the agency and program under which the claim arose, may be disclosed pursuant to 5 U.S.C. 552a(b)(12) to consumer reporting agencies as defined by section 603(f) of the Fair Credit Reporting Act (15 U.S.C. 1681a(f)) or in accordance with section 3(d)(4)(A)(ii) of the Federal Claims Collection Act of 1966 as amended (31 U.S.C. 3711(f)) for the purpose of encouraging the repayment of an overdue debt, or when otherwise trying to collect a claim of the Government. See Appendix I.

POLICIES AND PRACTICES FOR STORING, RETRIEVING, ACCESSING, RETAINING, AND DISPOSING OF RECORDS IN THE SYSTEM:

STORAGE:

Maintained in file folders or temporary electronic files.

RETRIEVABILITY:

Indexed by individual’s name.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained and disposed of under schedules and procedures approved or issued by the National Archives and Records Administration.

See DOL/GOVT-1 for the retention and disposal schedules that apply to claims files maintained by that agency. In general, all case files and automated data in that system pertaining to a claim are destroyed 15 years after the case file has become inactive. Case files that have been scanned to create electronic copies are destroyed after the copies are verified. Automated data are retained in their most current form only, however, and as information is updated, outdated information is deleted.

SYSTEM MANAGER(S) AND ADDRESS:

Director, Human Resources Management Office (HRMO), Federal Trade Commission, 600 Pennsylvania Avenue, NW., Washington, DC 20580. See DOL/GOVT-1 for information about the system manager and address for that system.

NOTIFICATION PROCEDURE; RECORD ACCESS PROCEDURES; AND CONTESTING RECORD PROCEDURES:

See Appendix II. Current FTC employees may also request access to their records directly through their Human Resources contact or managers as applicable and may be required to complete a written form and show identification to obtain access to their records. See DOL/GOVT-1 for information about the notification, record access and contesting procedures for claims records maintained by DOL.

RECORD SOURCE CATEGORIES:

Employee claiming work-related injury; beneficiaries; witnesses; FTC supervisors, managers, and responsible FTC HRMO staff; DOL; suppliers of health care products and services and their agents and representatives, including physicians, hospitals, and clinics; consumer credit reports, etc.

EXEMPTIONS CLAIMED FOR THE SYSTEM:

As explained in DOL/GOVT-1, in accordance with 5 U.S.C. 552a(k)(2), investigative materials, if any, in this system of records compiled for law enforcement purposes are exempt from subsections (c)(3), (d), (e)(1), (e)(4)(G), (H) and (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government under an express promise that the identity of the source would be held in confidence, or prior to January 1, 1975, under an implied promise that the identity of the source would be held in confidence.

FTC-II-4

SYSTEM NAME:

Employment Application-Related Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who have applied for employment at the FTC.

CATEGORIES OF RECORDS IN THE SYSTEM:

Applications for employment, correspondence, and other records submitted, generated, or otherwise compiled and maintained by the FTC as part of the recruitment, examination, or placement of individuals seeking FTC employment. Records covered by this system are fully described in the Government-wide system of records notice published by the Office of Personnel Management (OPM) for this system of records, OPM/GOVT-5 (Recruiting, Examining, and Placement Records).

AUTHORITY FOR MAINTENANCE OF THE SYSTEM:

Federal Trade Commission Act, 15 U.S.C. 41 et seq.; 5 U.S.C. ch. 33, subch. I; 5 U.S.C. 4103; Executive Order 9397.

PURPOSE(S):

To consider individuals who have applied for FTC employment by evaluating and making determinations of their qualifications or ineligibility; to rate and rank applicants for purposes of selecting candidates for employment. As noted in OPM/GOVT-5, records are also maintained and used to help identify training needs and for referral or research purposes.

ROUTINE USES OF RECORDS MAINTAINED IN THE SYSTEM, INCLUDING CATEGORIES OF USERS AND THE PURPOSES OF SUCH USES:

See OPM/GOVT-5 for a list of routine uses authorized by OPM for records in this system. Those uses include, for example:

(1) To disclose pertinent information to the appropriate Federal, State, or local agency responsible for investigating, prosecuting, enforcing, or implementing a statute, rule, regulation, or order, when the disclosing agency becomes aware of an indication of a violation or potential violation of civil or criminal law or regulation.

(2) To disclose information to any source from which additional information is requested (to the extent necessary to identify the individual, inform the source of the purposes of the request, and to identify the type of information requested), when necessary to obtain information relevant to an agency decision concerning hiring or retaining an employee, issuing a security clearance, conducting a security or suitability investigation of an individual, classifying positions, letting a contract, or issuing a license, grant or other benefit.

(3) To disclose information to a Federal agency, in response to its request, in connection with hiring or retaining an employee, issuing a security clearance, conducting a security or suitability investigation of an individual, classifying positions, letting a contract, or issuing a license, grant, or other benefit by the requesting agency, to the extent that the information is relevant and necessary to the requesting agency’s decision in the matter.

See also Appendix I for other ways that the Privacy Act allows the FTC to disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Electronic, paper, or other non-electronic records. The FTC (through an FTC contractor and in conjunction with OPM) uses Web sites to collect personal data from applicants for electronic management, processing, and storage. These data can also be downloaded and printed out.

RETRIEVABILITY:

By name, date of birth, Social Security number, and/or identification number assigned to the individual on whom they are maintained, or by other data fields or codes.

SAFEGUARDS:

Access is restricted to FTC personnel and contractors whose job duties require such access. Paper records are maintained in lockable cabinets or offices. Burn bags or shredding is used to destroy printouts, correspondence, or other records containing sensitive data. Access to electronic records is protected by “user ID” and password combination and/or other access or network controls (e.g., firewalls). FTC buildings are guarded and monitored by security personnel, cameras, ID checks, and other physical security measures.

RETENTION AND DISPOSAL:

Records are retained and destroyed in accordance with applicable schedules and guidance issued or approved by the National Archives and Records Administration. Retention periods vary depending on the record type and use.

SYSTEM MANAGER(S) AND ADDRESS:

Director, Human Resources Management Office, Federal Trade Commission, 600 Pennsylvania Avenue, NW., Washington, DC 20580.

See OPM/GOVT-5 for information about the system manager and address for OPM’s system of records.

NOTIFICATION PROCEDURE; RECORD ACCESS PROCEDURES; AND CONTESTING RECORD PROCEDURES:

See Appendix II.

RECORD SOURCE CATEGORIES:

Applicants; OPM; applicants’ personal references; FTC contractor’s Web site.

EXEMPTIONS CLAIMED FOR THE SYSTEM:

See OPM/GOVT-5 and 5 CFR 297.501. Investigatory materials, if any, relating to eligibility determinations, where disclosure may reveal confidential sources, in this system are exempted under 5 U.S.C. 552a(k)(5).

FTC-II-5

SYSTEM NAME:

Equal Employment Opportunity Statistical Reporting System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC employees.

CATEGORIES OF RECORDS IN THE SYSTEM:

Coded minority group designations and other data relevant to equal employment opportunity (EEO) at the FTC; other employee identification data (e.g., position, grade, office or duty station).

AUTHORITY FOR MAINTENANCE OF THE SYSTEM:

5 U.S.C. 1301, 3301, 7201, 7204; Executive Order 10577; 42 U.S.C. 2000e-16; Pub. L. 93-112.

PURPOSE(S):

To maintain EEO-related data about the FTC workforce; to protect and limit access to such workforce data by collecting and maintaining such data separately from certain other human resources records about employees; to provide the FTC’s EEO Office with data necessary to create general statistical analyses and reports.

ROUTINE USES OF RECORDS MAINTAINED IN THE SYSTEM, INCLUDING CATEGORIES OF USERS AND THE PURPOSES OF SUCH USES:

Data from system records are disclosed only in aggregate, non-individually identifiable form in analyses and reports generated for use within the FTC and for reporting to Congress, the Office of Management and Budget, the Equal Employment Opportunity Commission, and the Office of Personnel Management, as required by law.

See Appendix I for other ways that the Privacy Act allows the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Data from information collection forms completed by FTC employees are entered into and stored in a structured electronic database maintained on agency servers, with restricted access (see “Safeguards” below). Paper forms are compiled and kept in the FTC’s EEO Office.

RETRIEVABILITY:

Indexed by name of individual, name of group, or by cross-reference to title and grade or other human resources data fields or codes.

SAFEGUARDS:

Access is restricted to FTC personnel or contractors whose job duties require such access. Initial receipt and handling of information collection forms, as well as entry of data into computerized databases, is limited to authorized FTC individuals. Information collection forms are forwarded to and stored in lockable cabinets and offices within the FTC’s EEO Office. Completed forms and system data are stored and maintained separately from other human resources records to prevent access or use by unauthorized individuals. Access to electronic records is controlled by “user ID” and password combination, and may be obtained only by written authorization of the FTC’s EEO Director. System database is further protected by other network controls (e.g., firewalls). FTC buildings are guarded and monitored by security personnel, cameras, ID checks, and other physical security measures.

RETENTION AND DISPOSAL:

Records are retained and destroyed in accordance with schedules and guidance issued or approved by the National Archives and Records Administration. See, e.g., General Records Schedule 1.25.f (EEO-related employment statistics), which authorizes disposal after five years.

SYSTEM MANAGER(S) AND ADDRESS:

Director, Equal Employment Opportunity Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Self-identification by employee (e.g., on information collection forms completed by the employee); visual identification of employees or other personal information or knowledge used by FTC Human Resources or other staff for coding EEO-related data into the system; employee identification data from other human resources record systems (e.g., FTC-II-I, General Personnel Records—FTC).

EXEMPTIONS CLAIMED FOR THE SYSTEM:

None.

FTC-II-6

SYSTEM NAME:

Discrimination Complaint System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Past or present Federal Trade Commission employees and applicants for employment.

CATEGORIES OF RECORDS IN THE SYSTEM:

Complaints, affidavits, supporting documents, memoranda, correspondence, and notes relevant to and compiled during precomplaint and complaint investigations and matters at the FTC; investigatory files and reports incorporating copies of such records.

AUTHORITY FOR MAINTENANCE OF THE SYSTEM:

Section 717 of Title VII of the Civil Rights Act of 1964, as amended, 42 U.S.C. 2000e-16; 29 CFR part 1614.

PURPOSE(S):

To assist in the consideration given to reviews of potential or alleged violations of equal employment opportunity (EEO) statutes and regulations and to maintain records on precomplaint and complaint matters relating to those issues; for the purpose of counseling, investigating, and adjudicating such complaints; to resolve issues related to alleged discrimination because of race, national origin, religion, sex, age, and physical or mental handicap related to EEO matters; to make reports to Office of Management and Budget, Merit Systems Protection Board, and Equal Employment Opportunity Commission. (This system corresponds to EEOC/GOVT-1, Equal Employment Opportunity in the Federal Government Complaint and Appeal Records.)

ROUTINE USES OF RECORDS MAINTAINED IN THE SYSTEM, INCLUDING CATEGORIES OF USERS AND THE PURPOSES OF SUCH USES:

The system of records notice published for this system by the EEOC (EEO/GOVT-1) sets forth the routine uses (disclosures) of records in this system outside the agency. (For further information, the EEOC’s Web site is www.eeoc.gov.)

In addition, records in this system may be routinely used and/or disclosed:

(1) To the complainant’s lawyer or other formally designated representative of the individual, to the extent required by applicable Federal sector equal employment law and regulations. Portions of the investigatory file may be redacted to protect against disclosure outside the agency of information about individuals other than the complainant.

(2) As relevant and necessary in administrative hearings and appeals to which the complainant and the FTC are parties before the EEOC, including any related court litigation or appeals.

See Appendix I for other ways that the Privacy Act permits the FTC to use and disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Documents consist mainly of paper records; certain records (e.g., draft memoranda, letters, e-mails) may be generated or maintained electronically.

RETRIEVABILITY:

Indexed by name of the complainant.

SAFEGUARDS:

Access is restricted to FTC personnel and contractors whose responsibilities require access. Paper records are maintained in lockable cabinets in the FTC’s EEO Office, and access is restricted to FTC’s EEO staff and parties concerned in any related proceeding. Access to electronic records is controlled by “user ID” and password combination, and/or other appropriate electronic access and network controls (e.g., firewalls). FTC buildings are guarded and monitored by security personnel, cameras, ID checks, and other physical security measures.

RETENTION AND DISPOSAL:

Records are to be maintained for one year after resolution of the case and then transferred to the Federal Records Center where they are destroyed after three years. See EEOC/GOVT-1.

SYSTEM MANAGER(S) AND ADDRESS:

Director, Equal Employment Opportunity Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained, affiants, and EEO staff, other personnel records.

EXEMPTIONS CLAIMED FOR THE SYSTEM:

As provided in EEOC/GOVT-1, pursuant to subsection (k)(2) of the Privacy Act, 5 U.S.C. 552a(k)(2), investigatory materials, if any, compiled for law enforcement purposes in this system of records are exempt from subsections (c)(3), (d), (e)(1), (e)(4)(G), (e)(4)(H), (e)(4)(I) and (f) of the Act.

FTC-II-7

SYSTEM NAME:

Ethics Program Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Commission officials and employees required by FTC regulations to file statements of employment and financial interests, to enter into ethics agreements, or to obtain clearance or approval for travel reimbursements or outside employment. This system corresponds to the systems described and covered by the Government-wide system of record notices (SORNs) issued by the Office of Government Ethics (OGE) for agency ethics program records. See OGE/GOVT-1 (Executive Branch Personnel Public Financial disclosure Reports and Other Name-Retrieved Ethics Program Records); OGE/GOVT-2 (Executive Branch Confidential Financial Disclosure Reports). Visit OGE’s Web site, www.oge.gov, for more information.

CATEGORIES OF RECORDS IN THE SYSTEM:

Statements of employment and financial interests (containing name, organization, statement of personal and family holdings and other interests in business enterprises and real property, listings of creditors and outside employment, opinions of counsel, and other information related to conflict of interest disclosures and determinations); ethics agreements; and other disclosure forms. This system also includes FTC employee requests for and documentation of ethics clearance or approval of travel reimbursements or outside employment, as well as other name-retrieved ethics records on FTC employees.

AUTHORITY FOR MAINTENANCE OF THE SYSTEM:

Ethics in Government Act of 1978, 5 U.S.C. app.; Ethics Reform Act of 1989, Pub. L. 101-194; 5 CFR parts 735 & 2634, and other applicable ethics-related laws, rules, and Executive Orders.

PURPOSE(S):

To meet Federal requirements regarding the filing of employment and financial interest statements; and to assist senior Commission employees and members of the General Counsel’s Office to review statements of employment and financial interests to ascertain whether a conflict of interest or apparent conflict of interest exists and, if so, to ensure that appropriate action is taken to remove the conflict; to ensure that travel reimbursements are accepted only from qualified non-Federal sources; to comply with other ethics program requirements under Federal law, policy and regulation.

ROUTINE USES OF RECORDS MAINTAINED IN THE SYSTEM, INCLUDING CATEGORIES OF USERS AND THE PURPOSES OF SUCH USES:

Records in this system may be disclosed for any of the routine uses set forth in OGE/GOVT-1 and OGE/GOVT-2, as applicable. In addition, records in this system may be disclosed to a source when necessary to obtain information relevant to a conflict of interest investigation or determination.

See also Appendix I for other ways that the Privacy Act permits the FTC to use or disclose system records outside the agency.

DISCLOSURE TO CONSUMER REPORTING AGENCIES:

None, except as may be authorized under OGE/GOVT-1 or OGE/GOVT-2, or under 5 U.S.C. 552a(b)(12) when trying to collect a claim of the Government. See Appendix I.

POLICIES AND PRACTICES FOR STORING, RETRIEVING, ACCESSING, RETAINING, AND DISPOSING OF RECORDS IN THE SYSTEM:

STORAGE:

Electronic and paper records.

RETRIEVABILITY:

By name of Commission official or employee.

SAFEGUARDS:

Access is restricted to agency personnel and contractors whose responsibilities require access. Paper records are maintained in lockable file cabinets and offices. Access to electronic records is controlled by “user ID” and password combination and other access and network controls (e.g., firewalls). FTC buildings are guarded and monitored by security personnel, cameras, ID checks, and other physical security measures.

RETENTION AND DISPOSAL:

In accordance with the National Archives and Records Administration General Records Schedules for ethics program records, these records are generally retained for a period of six years after filing, or for such other period of time as is provided for in that schedule for certain specified types of ethics records. In cases where records are filed by, or with respect to, a nominee for an appointment requiring confirmation by the Senate when the nominee is not appointed and Presidential and Vice-Presidential candidates who are not elected, the records are generally destroyed one year after the date the individual ceased being under Senate consideration for appointment or is no longer a candidate for office. However, if any records are needed in an ongoing investigation, they will be retained until no longer needed in the investigation. Destruction is by shredding or electronic deletion.

SYSTEM MANAGER(S) AND ADDRESS:

Designated Agency Ethics Officer, Office of General Counsel, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained.

EXEMPTIONS CLAIMED FOR THE SYSTEM:

None.

FTC-II-8

SYSTEM NAME:

Employee Adverse Action and Disciplinary Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current or former FTC employees who have been disciplined or had a performance-based action taken against them, or who have a proposed disciplinary or performance-based action against them.

CATEGORIES OF RECORDS IN THE SYSTEM:

Case files and records related to adverse actions and performance-based actions (removal, suspension, reduction-in-grade, furlough) against employees. The file can include a copy of the proposed adverse action with supporting documents, statements of witnesses, employee’s reply, hearing notices, reports, agency decisions, reversal of action, and appeal records. Other types of records are set out in the Office of Personnel Management (OPM) Privacy Act system of records notice applicable to this system, OPM/GOVT-3 (Records of Adverse Actions, Performance Based Reduction in Grade and Removal Actions, and Termination of Probationers), or any successor system notice for this system.

AUTHORITY FOR MAINTENANCE OF THE SYSTEM:

5 U.S.C. 4301 et seq.; 5 U.S.C. 4311 et seq.; 5 U.S.C. 7101 et seq.; 5 U.S.C. 7501 et seq.; 5 U.S.C. 7511 et seq.; 5 U.S.C. 7541 et seq.; and 5 CFR parts 293, 315, 432 & 752.

PURPOSE(S):

To document proposed and final agency decisions on disciplinary actions, adverse actions, and performance-based actions in order for them to be defensible before third-party review.

ROUTINE USES OF RECORDS MAINTAINED IN THE SYSTEM, INCLUDING CATEGORIES OF USERS AND THE PURPOSES OF SUCH USES:

Records in this system may be disclosed for any of the routine uses set forth in OPM/GOVT-3.

In addition, records in this system:

(1) Including records of disciplinary actions, adverse actions and performance-based actions, may be disclosed to and used by employee relations specialists or others whose official duties require such information;

(2) Including records of official time used and travel and per diem money spent while attending to union business, may be disclosed to and used by labor relations specialists and others whose official duties require such information. Information in system records may also be disclosed to officials of labor organizations recognized under 5 U.S.C. 7101 et seq. when relevant and necessary to their duties as exclusive representative; and

(3) May be disclosed to the Federal Labor Relations Authority (including its General Counsel) when requested in connection with investigation and resolution of allegations of unfair labor practices, in connection with the resolution of exceptions to arbitrator’s awards where a question of material fact is raised and matters before the Federal Service Impasses Panel.

See also Appendix I for other ways that the Privacy Act permits the FTC to use or disclose system records outside the agency.

DISCLOSURE TO CONSUMER REPORTING AGENCIES:

None, except as may be authorized under OPM/GOVT-3, or under 5 U.S.C. 552a(b)(12) when trying to collect a claim of the Government. See Appendix I.

POLICIES AND PRACTICES FOR STORING, RETRIEVING, ACCESSING, RETAINING, AND DISPOSING OF RECORDS IN THE SYSTEM:

STORAGE:

Maintained in paper format in file folders; portions may also be temporarily stored in electronic formats.

RETRIEVABILITY:

Indexed by individual’s name.

SAFEGUARDS:

Access is restricted to agency personnel or contractors whose responsibilities require access. Paper records are maintained in lockable rooms or file cabinets. Access to any electronic records is controlled by “user ID” and password combination and/or other appropriate access or network controls (e.g., firewalls). FTC buildings are guarded and monitored by security personnel, cameras, ID checks, and other physical security measures.

RETENTION AND DISPOSAL:

Hard copy records are destroyed seven years after case is closed in accordance with General Records Schedule 1, item 30, issued by the National Archives and Records Administration. Temporary electronic files are destroyed when the agency determines that they are no longer needed for reference purposes in accordance with General Records Schedule 20.

SYSTEM MANAGER(S) AND ADDRESS:

Director, Human Resources Management Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the records pertain, witnesses, supervisors, program managers, counselor, related correspondence from organizations or persons.

EXEMPTIONS CLAIMED FOR THE SYSTEM:

None.

FTC-II-9

SYSTEM NAME:

Claimants Under Federal Tort Claims Act and Military Personnel and Civilian Employees’ Claims Act—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who have claimed reimbursement from FTC under Federal Tort Claims Act and Military Personnel and Civilian Employees' Claims Act.

CATEGORIES OF RECORDS IN THE SYSTEM:

Personal information relating to incidents in which the FTC may be liable for property damage, loss, or personal injuries; reimbursement applications; internal memoranda; and witness statements

AUTHORITY FOR MAINTENANCE OF THE SYSTEM:

Federal Tort Claims Act, 28 U.S.C. 1346(b), 28 U.S.C. 2671-2680; Military Personnel and Civilian Employees’ Claims Act, 31 U.S.C. 3721.

PURPOSE(S):

To consider claims made under the above-cited statutes; to investigate those claims; to determine appropriate responses to those claims; and to maintain records outlining all considerations and actions related to those claims.

ROUTINE USES OF RECORDS MAINTAINED IN THE SYSTEM, INCLUDING CATEGORIES OF USERS AND THE PURPOSES OF SUCH USES:

Records in this system:

(1) May be referred to Department of Justice, General Services Administration, or other federal agency when the matter comes within the jurisdiction of such agency; and

(2) May be used in discussions and correspondence with insurance companies, with other persons or entities that may be liable, with potential witnesses or others having knowledge of the matter.

See also Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Paper records stored in file folders; temporary electronic files.

RETRIEVABILITY:

Indexed by individual’s name.

SAFEGUARDS:

Access is restricted to agency personnel or contractors whose responsibilities require access. Paper records are maintained in lockable rooms or file cabinets. Access to electronic records is controlled by “user ID” and password combination and/or other appropriate access or network controls (e.g., firewalls). FTC buildings are guarded and monitored by security personnel, cameras, ID checks, and other physical security measures.

RETENTION AND DISPOSAL:

Records are retained for 6 years and 3 months after the matter has been resolved, and then destroyed, as provided in General Records Schedule 6, issued by the National Archives and Records Administration, except any claims files that are affected by court order or subject to litigation proceedings, which are destroyed when the court order is lifted or the litigation is concluded, or when the files are 6 years and 3 months old, whichever is later.

SYSTEM MANAGER(S) AND ADDRESS:

Deputy General Counsel for Legal Counsel, Office of the General Counsel, Federal Trade Commission, 600 Pennsylvania Avenue, NW., Washington, DC 20580.

Assistant Chief Financial Officer for Financial Systems, Internal Control and Policy, Financial Management Office, Federal Trade Commission, 600 Pennsylvania Avenue, N.W. 20580.

NOTIFICATION PROCEDURE; RECORD ACCESS PROCEDURES; AND CONTESTING RECORD PROCEDURES:

See Appendix II.

RECORD SOURCE CATEGORIES:

Individual about whom the record pertains (claimant); FTC employee involved in incident; other FTC employees or other persons having knowledge of the circumstances; official police report (if any); and insurance company representing claimant (if any).

EXEMPTIONS CLAIMED FOR THE SYSTEM:

None.

FTC-II-10

SYSTEM NAME:

Employee Health Care Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current and former FTC employees or others who receive services through on-site health units at FTC facilities.

CATEGORIES OF RECORDS IN THE SYSTEM:

Names, medical reports, opinions, evaluations, diagnoses and treatment information; and other records of the type described in the Privacy Act system of records notice published by the Health and Human Services’ Program Service Center (HHS/PSC) for System No. 09-40-0005 (Public Health Service (PHS) Beneficiary-Contract Medical/Health Care Records), or any successor system notice for that system. The FTC currently has an interagency contract with HHS/PSC, which, in turn, uses private contractors to provide nursing, vaccination, and other miscellaneous on-site health care services to FTC employees.

This system (FTC-II-10) excludes other medical records, if any, that may be compiled or maintained by the FTC or a contractor on the FTC’s behalf about FTC employees resulting from a condition of the individual’s employment (e.g., fitness-for-duty examination, drug testing) or on-the-job occurrence (e.g., medical injury report). Those records, if any, are described in and covered by the Office of Personnel Management (OPM) Privacy Act system of records notice for such records, OPM/GOVT-10 (Employee Medical File System Records), or any successor system notice for that system.

AUTHORITY FOR MAINTENANCE OF THE SYSTEM:

5 U.S.C. chapters 11, 63, 81, 83, and 84; 42 U.S.C. 216.

PURPOSE(S):

To maintain records concerning medical treatment administered to employees while on the job; to maintain continuity of care and evaluation; to furnish documentary evidence of the course of the patient’s medical evaluation and treatment; to document communications between the responsible practitioner and any other health professionals contributing to the individual’s health care and treatment; to verify the individual’s eligibility for certain services; for quality assurance (e.g., to help monitor and evaluate a contractor’s performance in delivering services).

See OPM/GOVT-10 for a description of the purposes for which the agency may compile and maintain other employee medical records, if any, that are described in and covered by that OPM system notice.

ROUTINE USES OF RECORDS MAINTAINED IN THE SYSTEM, INCLUDING CATEGORIES OF USERS AND THE PURPOSES OF SUCH USES:

Records in this system may be:

(1) Used to disclose information to the Department of Labor, Department of Veterans Affairs, Social Security Administration, Federal Retirement Thrift Investment Board, or a national, state, or local Social Security-type agency, when necessary to adjudicate a claim (filed by or on behalf of the individual) under a retirement, insurance, or health benefit program;

(2) Used to disclose information to a Federal, state, or local agency to the extent necessary to comply with laws governing reporting of communicable diseases;

(3) Used to disclose information to the Merit Systems Protection Board, the Office of Special Counsel, the Federal Labor Relations Authority and its General Counsel, the Equal Employment Opportunity Commission, arbitrators, and hearing examiners to the extent necessary to carry out their authorized duties;

(4) Used to disclose information to health insurance carriers contracting with the Office of Personnel Management to provide a health benefits plan under the Federal Employees Health Benefits Program information necessary to verify eligibility for payment of a claim for health benefits, and to disclose information to the Office of Federal Employees Group Life Insurance or Federal Retirement Thrift Investment Board that is relevant and necessary to adjudicate claims;

(5) Used to disclose information, when an individual to whom a record pertains is mentally incompetent or under other legal disability, to any person who is responsible for the care of the individual, to the extent necessary, and to disclose to the agency-appointed representative of an employee all notices, determinations, decisions, or other written communications issued to the employee, in connection with an examination ordered by the agency under agency-filed disability retirement procedures;

(6) Used to disclose to a requesting agency, organization, or individual the home address and other information concerning those individuals who it is reasonably believed might have contracted an illness or been exposed to or suffered from a health hazard while employed in the Federal work force; and

(7) May be disclosed, to the extent they reflect information regarding the commission of crimes or the reporting of occurrences of communicable diseases, tumors, child abuse, births, deaths, alcohol or drug abuse, etc., as required by health providers and facilities by State law or regulation of the department of health or other agency of the State or its subdivision in which the facility is located. Disclosures will be made to organizations as specified by the State law or regulation, such as births and deaths to the vital statistics agency and crimes to law enforcement agencies.

See also Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Stored in file folders. Some information may be stored temporarily in electronic format (e.g., e-mails, electronic files).

RETRIEVABILITY:

Indexed by individual’s name.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained according to schedules and procedures issued or approved by the National Archives and Records Administration.

SYSTEM MANAGER(S) AND ADDRESS:

Director, Human Resources Management Office, Federal Trade Commission, 600 Pennsylvania Avenue, NW., Washington, DC 20580.

Director, DCP/HRS/PSC, Room 4A-15, Parklawn Building, 5600 Fishers Lane, Rockville, Maryland 20857-0001.

NOTIFICATION PROCEDURE; RECORD ACCESS PROCEDURES; AND CONTESTING RECORD PROCEDURES:

See Appendix II.

RECORD SOURCE CATEGORIES:

Individual about whom the records are maintained, treating nurses or other medical staff, witness statements, supervisors/managers and other agency officials, and others.

EXEMPTIONS CLAIMED FOR THE SYSTEM:

None.

FTC-II-11

SYSTEM NAME:

Personnel Security, Identity Management, and Access Control Records System—FTC.

SECURITY CLASSIFICATION:

Not applicable.

SYSTEM LOCATION:

Federal Trade Commission, 600 Pennsylvania Avenue, NW., Washington, DC 20580. System data pertaining to identity management are maintained separately off-site by an FTC contractor. See Appendix III for other locations where records may be maintained or accessed.

CATEGORIES OF INDIVIDUALS COVERED BY THE SYSTEM:

Current and former FTC employees, contractor staff, or other individuals who have requested, been issued, and/or used FTC identification for access to FTC and/or other Federally controlled facilities.

CATEGORIES OF RECORDS IN THE SYSTEM:

Names, security investigation reports, adjudication files, card files, and position sensitivity designation files, and other data compiled, generated or used for personnel security clearance; fingerprints, photographs, signatures, and other personal data collected or used in connection with the issuance of FTC identification (credentials); time, date, location, or other data, logs, tapes, or records compiled or generated when such credentials are used to obtain physical or logical access to FTC facilities or resources.

AUTHORITY FOR MAINTENANCE OF THE SYSTEM:

5 U.S.C. 301; Homeland Security Presidential Directive—12 (HSPD-12).

PURPOSE(S):

To conduct personnel security investigations; to make determinations required based upon the results of those investigations; and to maintain records of the investigations and determinations; to issue credentials that comply with Government-wide standards issued under HSPD-12, or to issue other non-HSPD-12 temporary identification for access to FTC facilities or resources; to maintain logs or other records of such logical and physical access by FTC staff, contractors, or other individuals; to detect, report and take appropriation action against improper or unauthorized issuance or use of FTC credentials, and unauthorized access to or use of FTC facilities and resources.

ROUTINE USES OF RECORDS MAINTAINED IN THE SYSTEM, INCLUDING CATEGORIES OF USERS AND THE PURPOSES OF SUCH USES:

(1) Records in this system may be used to disclose to an agency in the executive, legislative, or judicial branch, in response to its request, information on the issuance of a security clearance or the conducting of a security or suitability investigation on individuals who, at the time the records are added to the system, were Commission employees.

(2) Access logs, tapes, or other system records may be reviewed or referred and disclosed to police or other law enforcement personnel for purposes of investigating possible criminal or other illegal activity of individuals who have accessed FTC facilities or resources.

See Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Paper and electronic records, tapes, or other digital or non-digital media. Identity management system data are maintained in an off-site database maintained and operated by a contractor on behalf of the FTC.

RETRIEVABILITY:

Paper records indexed by individual’s name. Electronic records searched and retrieved by name or other data fields or codes.

SAFEGUARDS:

Access to personnel security files is restricted to FTC Personnel Security staff, and such files are maintained in a combination-locked safe and lockable metal file cabinets, in locked rooms. Personnel investigation reports may be reviewed by an agency official (who has been subject to a favorable background investigation) only on a strict need-to-know basis. Identity management system (IDMS) data are collected, maintained and accessed only by authorized individuals. IDMS data are not maintained with other data on agency network servers, but are transferred by dedicated telephone data lines for off-site vendor storage, management and security. Security systems and equipment that electronically log or record usage of FTC-issued credentials to obtain access to FTC facilities or resources are secured electronically and physically (e.g., recording and video monitoring equipment and servers in rooms accessible only by authorized key cards). FTC buildings are guarded and monitored by security personnel, cameras, ID checks, and other physical security measures.

RETENTION AND DISPOSAL:

Personnel investigation reports are retained for 15 years or until an employee separates from the agency. Records of adjudicative actions are maintained for two years. Other records in this system are retained and destroyed in accordance with applicable retention and disposal schedules and guidance issued or approved by the National Archives and Records Administration.

SYSTEM MANAGER(S) AND ADDRESS:

Security Officer, Administrative Services Office, Office of the Executive Director, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual requesting or requiring FTC identification for logical or physical access purposes; Office of Personnel Management Security Investigations Index, FBI Headquarters investigative files, fingerprint index of arrest records, Defense Central Index of Investigations, previous employers, references identified by record subject individual, school registrars, and responsive law enforcement agencies.

EXEMPTIONS CLAIMED FOR THE SYSTEM:

Pursuant to 5 U.S.C. 552a(k)(5), records in this system, to the extent such records have been compiled to determine suitability, eligibility, or qualifications for employment or other matters, as set forth in the cited Privacy Act provision, and would reveal the identity of a confidential source, are exempt from the requirements of subsections (c)(3), (d), (e)(1), (e)(4)(G), (H), (I), and (f) of 5 U.S.C. 552a. See § 4.13(m) of the FTC Rules of Practice, 16 CFR 4.13(m).

FTC-II-12

SYSTEM NAME:

Training Reservation System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who, at the time the records are added to the system, are FTC employees who registered to attend training courses offered by the Human Resources Management Office.

CATEGORIES OF RECORDS IN THE SYSTEM:

Employee identification number, course number, course title, course date and time, and attendance indicator.

AUTHORITY FOR MAINTENANCE OF THE SYSTEM:

Federal Trade Commission Act, 15 U.S.C. 41 et seq.; 5 U.S.C. ch. 41; 5 CFR 410.701.

PURPOSE(S):

To provide information to agency managers necessary to indicate the training that has been requested and provided to individual employees; to determine course offerings and frequency; and to manage the training program administered by the Human Resources Management Office.

ROUTINE USES OF RECORDS MAINTAINED IN THE SYSTEM, INCLUDING CATEGORIES OF USERS AND THE PURPOSES OF SUCH USES:

See Appendix I for ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Records are stored in electronic record systems and temporary paper printouts.

RETRIEVABILITY:

Indexed by employee identification number and name.

SAFEGUARDS:

Access is restricted to agency personnel or contractors whose responsibilities require access. Paper records are maintained in lockable rooms or file cabinets. Access to electronic records is controlled by “user ID” and password combination and/or other appropriate electronic access and network controls (e.g., firewalls). FTC buildings are guarded and monitored by security personnel, cameras, ID checks, and other physical security measures.

RETENTION AND DISPOSAL:

Employee training records are generally retained according to General Records Schedule (GRS) 1, Item 29, issued by the National Archives and Records Administration. Temporary electronic files are destroyed when the agency determines that they are no longer needed for reference purposes in accordance with GRS 20. Other materials, including inputs and hard copy printouts derived from electronic records created on an ad hoc basis for reference purposes or to meet day-to-day business needs, are destroyed when the agency determines that they are no longer needed for administrative, legal, audit, or other operational purposes.

SYSTEM MANAGER(S) AND ADDRESS:

Director, Human Resources Management Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained, supervisors, managers, and Human Resources Management Office staff responsible for the training program.

EXEMPTIONS CLAIMED FOR THE SYSTEM:

None.

FTC-II-13

SYSTEM NAME:

Staff Time and Activity Reporting (STAR) System—FTC.

SECURITY CLASSIFICATION:

Not applicable.

SYSTEM LOCATION:

Financial Management Office, Federal Trade Commission, 600 Pennsylvania Avenue, NW., Washington, DC 20580. See Appendix III for other locations where records may be maintained or accessed.

CATEGORIES OF INDIVIDUALS COVERED BY THE SYSTEM:

Current and former FTC employees.

CATEGORIES OF RECORDS IN THE SYSTEM:

Employee names; staff time reported in hours, by mission, organization, and specific FTC matter, activity, or program.

AUTHORITY FOR MAINTENANCE OF THE SYSTEM:

31 U.S.C., subtitle III, chapter 35; 31 U.S.C. 1104, 1105, and 1115; 5 U.S.C. 306; OMB Circular A-11; OMB Bulletin 97-01.

PURPOSE(S):

To track the time spent by FTC staff on individual investigations, projects, and other activities of the agency and to compare expended staff time against statutory mandates and FTC policy; to generate program and performance information for annual budget submissions, Government Performance and Results Act (GPRA) plans and reports, and agency financial statements that are provided to Congress, the Office of Management and Budget (OMB), the Commission, and others.

ROUTINE USES OF RECORDS MAINTAINED IN THE SYSTEM, INCLUDING CATEGORIES OF USERS AND THE PURPOSES OF SUCH USES:

Records in this system may be disclosed to or shared with Congress, OMB, or others where relevant and necessary in connection with annual budget submissions, GPRA plans and reports, and agency financial statements.

See also Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Data are stored in an electronic database. Paper may be used for inputs and paper printouts generated by the database. Records are stored either on site or at an off-site managed information storage facility.

RETRIEVABILITY:

Indexed by employee name and by various codes for mission, organization and specific FTC matter, activity, or program.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures.

RETENTION AND DISPOSAL:

Records are retained in accordance with the applicable National Archives and Records Administration General Records Schedule(s) (GRS), including portions of GRS 8 and 20. Most system records are stored at least 3 years after the close of a case or project matter in order to accumulate data for use in cost reports. Other materials, including inputs and hard copy printouts derived from electronic records created on an ad hoc basis for reference purposes or to meet day-to-day business needs, are destroyed when the agency determines that they are no longer needed for administrative, legal, audit, or other operational purposes.

SYSTEM MANAGER(S) AND ADDRESS:

Chief Financial Officer, Financial Management Office, Office of the Executive Director, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

FTC employees and consultants, including staff responsible for STAR data entry, STAR coordinators, STAR administrative officers, STAR approving officials, and STAR administrators.

EXEMPTIONS CLAIMED FOR THE SYSTEM:

None.

III. FTC Financial Systems of Records

FTC-III-1

SYSTEM NAME:

Personnel Payroll System—FTC.

SECURITY CLASSIFICATION:

Not applicable.

SYSTEM LOCATION:

Federal Trade Commission, 600 Pennsylvania Avenue, NW., Washington, DC 20580. See Appendix III for other locations where system records may be maintained or accessed.

Federal Personnel Payroll System (FPPS) Management Division, U.S. Department of Interior, National Business Center, 7301 West Mansfield Avenue, Denver, CO 80227.

CATEGORIES OF INDIVIDUALS COVERED BY THE SYSTEM:

Current and former Federal Trade Commission employees.

CATEGORIES OF RECORDS IN THE SYSTEM:

Employee name, Social Security number, and organizational code; pay rate and grade, retirement, and location data; length of service; pay, leave, time and attendance, allowances, and cost distribution records; deductions for Medicare or FICA, savings bonds, FEGLI, union dues, taxes, allotments, quarters, charities, health benefits, Thrift Savings Fund contributions, awards, shift schedules, pay differentials, IRS tax lien data, commercial garnishments, child support and/or alimony wage assignments; and related payroll and personnel data. Also included is information on debts owed to the government as a result of overpayment, refunds owed, or a debt referred for collection on a transferred employee.

These records are also covered by the applicable system notice published by the Department of Interior (DOI), DOI-85 (Payroll, Attendance, Retirement, and Leave Records—Interior), and any successor system notice that may be published by DOI for this system.

AUTHORITY FOR MAINTENANCE OF THE SYSTEM:

Title 5 of the United States Code, Part III, Subparts A-G; 31 U.S.C. 3512; 5 U.S.C. 5101 et seq.; Pub. L. 81-784, 64 Stat. 832; Joint Financial Management Improvement Program (JFMIP), Human Resources & Payroll System Requirements, JFMIP-SR-99-5 (April 1999).

PURPOSE(S):

To maintain, process and/or provide complete, accurate, and prompt: (a) payment of salary and deductions; (b) payroll information relating to retirement contributions, including the calculation of retirement benefits; (c) generation and maintenance of human resources and payroll records and transactions; (d) interaction of human resources and payroll systems with core financial systems; (e) adequate internal controls to ensure that human resources and payroll systems are operating in accordance with applicable laws and regulations; and (f) information, without extraneous material, to those internal and external to the agency who require the information, including the answering of employees’ inquiries regarding their retirement contributions while they are with the agency.

ROUTINE USES OF RECORDS MAINTAINED IN THE SYSTEM, INCLUDING CATEGORIES OF USERS AND THE PURPOSES OF SUCH USES:

Records in this system:

(1) That identify the individual’s work schedule may be disclosed to that extent, and for that purpose, to others within or outside the agency;

(2) To the extent they contain information about an individual’s unemployment compensation, may be referred to state and local unemployment compensation boards;

(3) To the extent they contain information about employment pay, benefits, retirement deductions, and other information necessary for the Office of Personnel Management (OPM) to carry out its Government-wide personnel management functions, may be referred to OPM for such purposes;

(4) May be referred to OPM upon the individual’s retirement, transfer to another Federal agency, or resignation from Federal service; and

(5) May be disclosed for any routine use noted in the Department of Interior (DOI) Privacy Act system of records notice applicable to this system, DOI-85 (Payroll, Attendance, Retirement, and Leave Records—Interior), or any successor system notice for this system.

See also Appendix I for other ways that the Privacy Act permits the FTC to use or disclose system records outside the agency.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORING, RETRIEVING, ACCESSING, RETAINING, AND DISPOSING OF RECORDS IN THE SYSTEM:

STORAGE:

Stored on computer tape at the U.S. Department of Interior, National Business Center, which processes employee payroll for the FTC under an interagency agreement. Paper printouts or original input documents may be stored at the FTC in locked file cabinets or as imaged documents on magnetic media at all locations that prepare and input documents and information for data processing.

RETRIEVABILITY:

Indexed by name, Social Security number, and organizational code.

SAFEGUARDS:

Access is restricted to agency personnel or contractors whose responsibilities require access. Paper records are maintained in lockable rooms or file cabinets. Access to electronic records is controlled by “user ID” and password combination and/or other appropriate electronic access controls. FTC buildings are guarded and monitored by security personnel, cameras, ID checks, and other physical security measures.

RETENTION AND DISPOSAL:

The records in this system have varying retention periods as described in the National Archives and Records Administration’s General Records Schedule 2. Records are held for length of the service of the employee while he or she is at FTC. Information is forwarded to OPM at the end of the employee’s FTC service. Other materials, including inputs and printouts derived from electronic records created on an ad hoc basis for reference purposes or to meet day-to-day business needs, are destroyed when the agency determines that they are no longer needed for administrative, legal, audit, or other operational purposes according to General Records Schedule 20.

SYSTEM MANAGER(S) AND ADDRESS:

Director, Division of Budget and Finance, Federal Trade Commission, 600 Pennsylvania Avenue, NW., Washington, DC 20580.

Director, Human Resources Management Office, Federal Trade Commission, 600 Pennsylvania Avenue, NW., Washington, DC 20580.

See DOI-85 for the FPPS system manager and address.

NOTIFICATION PROCEDURE; RECORD ACCESS PROCEDURES; AND CONTESTING RECORD PROCEDURES:

See Appendix II.

RECORD SOURCE CATEGORIES:

Individuals on whom the records are maintained, official personnel records of individuals on whom the records are maintained, supervisors, timekeepers, previous employer, and the Internal Revenue Service.

EXEMPTIONS CLAIMED FOR THE SYSTEM:

None.

FTC-III-2

SYSTEM NAME:

Travel Management System—FTC.

SECURITY CLASSIFICATION:

Not applicable.

SYSTEM LOCATION:

Financial Management Office, Federal Trade Commission, 600 Pennsylvania Ave., N.W., Washington, DC 20580. This system of records is principally operated and maintained off-site by an FTC contractor, although this system is also intended to include any miscellaneous official FTC travel data that may be maintained on-site by individual FTC offices and retrieved by name or other personally assigned identifier about individuals on official FTC travel. See Appendix III for other locations where records may be maintained or accessed.

CATEGORIES OF INDIVIDUALS COVERED BY THE SYSTEM:

FTC employees or other individuals (e.g., witnesses) who travel on official business; FTC administrative staff who perform administrative tasks in the system on behalf of traveling employees or other individuals; and FTC supervisors who approve travel plans for employees or others.

CATEGORIES OF RECORDS IN THE SYSTEM:

Names, Social Security numbers, home and/or business phone numbers, home and/or business addresses, vendor ID numbers, e-mail addresses, emergency contact information (names, addresses, and phone numbers), and credit card information (personal and/or government-issued). For traveling FTC employees or other individuals (e.g., witnesses) only, additional data may be maintained, such as passport numbers (for international travelers), frequent flyer or other rewards membership numbers, and trip-specific information (travel dates, flight numbers, destinations, accommodations, vehicle rental, miscellaneous expenses claimed).

Other types of records covered by this system are set out in the General Services Administration (GSA) Privacy Act system of records notice applicable to this system, GSA/GOVT-4, or any successor system notice for this system.

AUTHORITY FOR MAINTENANCE OF THE SYSTEM:

31 USC 3511, 3512 and 3523; 5 U.S.C. Chapter 57; and implementing Federal Travel Regulations (41 CFR parts 301-304).

PURPOSE(S):

To plan, authorize, arrange, process and manage official FTC travel; to maintain records on individuals who are current FTC employees on travel and individuals being provided travel by the Government; to obtain travel authorizations; to prepare and submit local travel vouchers; to generate travel expense reports; and to enable travel agents who are under contract to the Federal government to issue and account for travel provided to individuals.

ROUTINE USES OF RECORDS MAINTAINED IN THE SYSTEM, INCLUDING CATEGORIES OF USERS AND THE PURPOSES OF SUCH USES:

(1) For any routine use noted in the GSA Privacy Act system of records notice applicable to this system, GSA/GOVT-4, or any successor system notice for this system.

See also Appendix I for other ways that the Privacy Act permits the FTC to use or disclose system records outside the agency.

DISCLOSURE TO CONSUMER REPORTING AGENCIES:

None, except as authorized by GSA/GOVT-4, or under 5 U.S.C. 552a(b)(12) when trying to collect a claim of the Government. See Appendix I.

POLICIES AND PRACTICES FOR STORING, RETRIEVING, ACCESSING, RETAINING, AND DISPOSING OF RECORDS IN THE SYSTEM:

STORAGE:

Data are entered into system database by traveling individuals and/or administrative staff through system Web site and stored electronically; temporary paper printouts. Miscellaneous travel data maintained by individual FTC offices are stored in electronic files on secured agency servers.

RETRIEVABILITY:

Indexed by individual name and travel order number.

SAFEGUARDS:

Access is restricted to agency personnel or contractors whose responsibilities require access. Paper records are maintained in lockable rooms or file cabinets. Access to electronic records is controlled by “user ID” and password combination and/or other appropriate electronic access or network controls (e.g., firewalls). FTC buildings are guarded and monitored by security personnel, cameras, ID checks, and other physical security measures. See GSA/GOVT-4 for additional safeguards applicable to electronic records in this system that are maintained by the FTC’s contractor.

RETENTION AND DISPOSAL:

See National Archives and Records Administration (NARA) General Records Schedule (GRS) 9 for Travel and Transportation Records, and GRS 20 for Electronic Records. Electronic data are available online as detailed records for at least 36 months, and are available as retrievable archived records for at least 6 years and 3 months, pursuant to NARA guidelines regarding record disposition, as provided in 36 CFR 1228 and 1234. Records that meet the criteria for disposition may be purged from the system database. Other materials, including inputs and hard copy printouts derived from electronic records created on an ad hoc basis for reference purposes or to meet day-to-day business needs, are destroyed when the agency determines that they are no longer needed for administrative, legal, audit, or other operational purposes according to the GRS.

SYSTEM MANAGER(S) AND ADDRESS:

Chief Financial Officer, Financial Management Office, Federal Trade Commission, 600 Pennsylvania Ave. N.W.,Washington, DC 20580.

NOTIFICATION PROCEDURE; RECORD ACCESS PROCEDURES; AND CONTESTING RECORD PROCEDURES:

See Appendix II.

RECORD SOURCE CATEGORIES:

Traveling employees or other individuals (e.g., witnesses), FTC administrative staff, FTC supervisors, credit card companies and travel service providers.

EXEMPTIONS CLAIMED FOR THE SYSTEM:

None.

FTC-III-3

SYSTEM NAME:

Financial Management System—FTC.

SECURITY CLASSIFICATION:

Not applicable.

SYSTEM LOCATION:

(1) Financial Management Office, Federal Trade Commission, 600 Pennsylvania Avenue, NW., Washington, DC 20580;

(2) National Business Center, U.S. Department of the Interior, 7301 West Mansfield, Denver, CO 80235; and

(3) Office of Federal Systems and Services, National Business Center, U.S. Department of the Interior, 12201 Sunrise Valley Drive, Room 6A231, MS-206, Reston, VA 20192.

See Appendix III for other locations where records may be maintained or accessed.

CATEGORIES OF INDIVIDUALS COVERED BY THE SYSTEM:

Employees who claim reimbursement from the FTC for travel or other reimbursable expenses personally incurred; individuals doing business as sole proprietors; individuals who are reimbursed by the FTC for travel or other miscellaneous expenses.

CATEGORIES OF RECORDS IN THE SYSTEM:

For current and former FTC employees, records include names, home addresses, employee supplier numbers, Social Security numbers, banking account numbers for electronic fund transfer payments, invoices and claims for reimbursements.

For non-employee individuals and sole proprietors, records include names, home or business addresses, Social Security numbers, banking account numbers for electronic fund transfer payments, invoices and claims for reimbursement. Records in this system are subject to the Privacy Act only to the extent, if any, they are about an individual within the meaning of the Act, and not if they are about a business or other non-individual.

This system is also covered by the system notice published by the Department of Interior (DOI) for this system, DOI-90 (Federal Financial System), or any successor system notice published by DOI for this system.

AUTHORITY FOR MAINTENANCE OF THE SYSTEM:

5 U.S.C. 4111(b), 5514, 5701 et seq.; 26 U.S.C. 6103(m); 31 U.S.C. 3512, 3711, 3716; 41 CFR parts 301-304; U.S. Treasury Financial Manual.

PURPOSE(S):

To perform core accounting functions, which includes but is not limited to supporting and documenting expenses incurred in the performance of official agency duties; to bill and follow-up; to pay creditors; to account for goods and services received; to account for funds paid and received; and to process travel authorizations and claims.

ROUTINE USES OF RECORDS MAINTAINED IN THE SYSTEM, INCLUDING CATEGORIES OF USERS AND THE PURPOSES OF SUCH USES:

Records in this system:

(1) May be disclosed for any routine use noted in the Department of Interior Privacy Act system of records notice applicable to their system, Federal Financial System, DOI-90, or any successor system notice for this system; and

(2) To the extent they pertain to FTC acquisition activities, may be transmitted or disclosed to the General Service Administration’s Federal Procurement Data System, a central repository for statistical information on Government contracting, for purposes of providing public access to Government-wide data about agency contract actions.

See also Appendix I for other ways that the Privacy Act permits the FTC to use or disclose system records outside the agency.

DISCLOSURE TO CONSUMER REPORTING AGENCIES:

Disclosure pursuant to 5 U.S.C. 552a(b)(12). Disclosures may be made from this system to consumer reporting agencies as defined in the Fair Credit Reporting Act (15 U.S.C. 1681a(f) or the Federal Claims Collection Act of 1966 (31 U.S.C. 3701(a)(3)).

POLICIES AND PRACTICES FOR STORING, RETRIEVING, ACCESSING, RETAINING, AND DISPOSING OF RECORDS IN THE SYSTEM:

STORAGE:

Stored on magnetic disks and tape and on paper.

RETRIEVABILITY:

Records are retrievable electronically, and are indexed or indexable by virtually any data field available (see record categories above).

SAFEGUARDS:

Access is restricted to agency personnel or contractors whose responsibilities require access. Paper records are maintained in lockable rooms or file cabinets. Access to electronic records is controlled by “user ID” and password combination and/or other network access or security controls (e.g., firewalls). FTC buildings are guarded and monitored by security personnel, cameras, ID checks, and other physical security measures.

RETENTION AND DISPOSAL:

Records are retained in accordance with the applicable National Archives and Records Administration schedules, including portions of General Records Schedules 6, 7, 9 and 20. Most records, including general accounts ledgers and voucher forms, are maintained for a minimum of six years and three months. Other materials, including hard copy printouts derived from electronic records created on an ad hoc basis for reference purposes or to meet day-to-day business needs, are destroyed when the agency determines that they are no longer needed for administrative, legal, audit, or other operational purposes.

SYSTEM MANAGER(S) AND ADDRESS:

(1) Chief Financial Officer, Financial Management Office, Federal Trade Commission, 600 Pennsylvania Avenue, NW., Washington, DC 20580;

(2) The following system manager has overall responsibility for the Federal Financial System: Director, Office of Financial Management, U.S. Department of the Interior, 1849 C Street NW., MS-5412 MIB, Washington, DC 20240; and

(3) The following system managers have responsibility for the management and operation of the computing centers through which the Federal Financial System has been implemented:

(a) Director, Office of Federal Systems and Services, National Business Center, U.S. Department of the Interior, 12201 Sunrise Valley Drive, Room 6A231, MS-206, Reston, VA 20192; and

(b) Chief, Financial Systems Division, Products and Services, National Business Center, MS D-2700, 7301 West Mansfield Avenue, Denver, CO 80235-2230.

NOTIFICATION PROCEDURE; RECORD ACCESS PROCEDURES; AND CONTESTING RECORD PROCEDURES:

See Appendix II.

RECORD SOURCE CATEGORIES:

Employees and former employees seeking reimbursement from the FTC for expenses personally incurred, vendor as a corporate entity or federal agency, individual vendor (e.g., sole proprietors), and individual point of contact for a vendor.

EXEMPTIONS CLAIMED FOR THE SYSTEM:

None.

FTC-III-4

SYSTEM NAME:

Automated Acquisitions System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current or former agency vendors, if any, who are “individuals” within the meaning of the Privacy Act; FTC staff who have requisitioned goods or services; FTC authorizing officials; FTC staff who are on the routing list for the requisition.

CATEGORIES OF RECORDS IN THE SYSTEM:

Name of vendor; business address, business telephone, tax identification number (i.e., employer identification number or Social Security number), and bank routing and account number(s); supporting documents and related correspondence from active contracts and also from pending contracts prior to formal acceptance; name, phone or other administrative point-of-contact information for FTC staff involved in the requisition. Records in this system are subject to the Privacy Act only to the extent, if any, they are about an individual within the meaning of the Act, and not if they are about a business or other non-individual.

AUTHORITY FOR MAINTENANCE OF THE SYSTEM:

31 U.S.C. 3512; 41 U.S.C. 401 et seq.; Federal Acquisition Regulation, 48 CFR.

PURPOSE(S):

To manage the work and fulfillment process for the procurement (acquisition) of goods and services by the FTC, and provide short-term electronic storage of FTC procurement records; to help prepare agency financial reports.

ROUTINE USES OF RECORDS MAINTAINED IN THE SYSTEM, INCLUDING CATEGORIES OF USERS AND THE PURPOSES OF SUCH USES:

Records in this system pertaining to FTC acquisition activities may be transmitted or disclosed to the General Service Administration’s Federal Procurement Data System, a central repository for statistical information on Government contracting, for purposes of providing public access to Government-wide data about agency contract actions.

See also Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Data entered and stored in a structured electronic database using a commercial software application. Paper may be used for inputs and paper printouts generated by the database. Records are stored either on site or at an off-site managed information storage facility.

RETRIEVABILITY:

Indexed by requisition number, contract number, vendor name and number.

SAFEGUARDS:

Access is restricted to agency personnel or contractors whose responsibilities require access. Paper records are maintained in lockable rooms or file cabinets. Access to electronic records is controlled by “user ID” and password combination and/or other network access or security controls (e.g., firewalls). FTC buildings are guarded and monitored by security personnel, cameras, ID checks, and other physical security measures. This system is also subject to periodic internal reviews and annual audits by the FTC Office of the Inspector General.

RETENTION AND DISPOSAL:

Records are retained and destroyed in accordance with applicable schedules and procedures issued or approved by the National Archives and Records Administration (NARA). Retention periods vary depending on the nature of the record. See, e.g., NARA General Records Schedule (GRS) 3 and 20. Other materials, including inputs and hard copy printouts derived from electronic records created on an ad hoc basis for reference purposes or to meet day-to-day business needs, are destroyed when the agency determines that they are no longer needed for administrative, legal, audit, or other operational purposes.

SYSTEM MANAGER(S) AND ADDRESS:

Chief, Acquisitions Branch, Financial Management Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Vendors, FTC staff who requisition goods or services.

EXEMPTIONS CLAIMED FOR THE SYSTEM:

None.

FTC-III-5

SYSTEM NAME:

Employee Transportation Program Records—FTC.

SECURITY CLASSIFICATION:

Not applicable.

SYSTEM LOCATION:

Federal Trade Commission, 600 Pennsylvania Avenue, NW., Washington, DC. See Appendix III for other locations where records may be maintained or accessed.

CATEGORIES OF INDIVIDUALS COVERED BY THE SYSTEM:

Past and present FTC employees who have applied for public transportation subsidies from the FTC to commute for work, or who may apply to participate in other employee transportation-related programs (e.g., parking garage permits) that the FTC may administer from time to time, if any.

CATEGORIES OF RECORDS IN THE SYSTEM:

Subsidy application forms (e.g., FTC Forms 987, 987-A) containing information such as the employee’s name, home address, other contact identifying data, mode of transportation, estimated commuting costs, amount of subsidy being sought, and signed certification; miscellaneous reports, forms, vouchers, or other records, to the extent, if any, maintained in the system and retrieved by the employee’s name or other assigned personal identifier, relating to the disbursement or discontinuation of subsidies to the employee. Other data collected and maintained for employee transportation-related programs may include employee data that is relevant and necessary for participating in and administering such programs (e.g., drivers’ licenses for garage parking permits).

Data transmitted by the FTC to the U.S. Department of Transportation (DOT), which administers and distributes the transit subsidies for FTC employees, are described in and covered by the system notice published by DOT for that system, DOT/ALL 8 (Employee Transportation Facilitation), or any successor system notice for that system.

AUTHORITY FOR MAINTENANCE OF THE SYSTEM:

5 U.S.C. 7905 note; Pub. L. 103-172; Executive Order 13150.

PURPOSE(S):

Transit subsidy records are collected and maintained to implement Federal law encouraging Federal employees to use public transportation for commuting to and from work. Such records are used to authorize subsidies for qualified FTC employees to help cover such commuting costs; to ensure the accurate and timely disbursement of subsidies to such employees; and to audit and otherwise detect or prevent fraud or abuse, if any, of such subsidies. Other employee transportation program records may be collected and maintained to administer those programs, including for building security purposes (e.g., drivers’ license numbers maintained for individuals who have been issued garage parking permits).

ROUTINE USES OF RECORDS MAINTAINED IN THE SYSTEM, INCLUDING CATEGORIES OF USERS AND THE PURPOSES OF SUCH USES:

Records in this system:

(1) May be disclosed to the U.S. Department of Transportation (DOT) for purposes of processing and distributing subsidies to FTC employees and verifying employee compliance with program rules, and may be used and disclosed by DOT under the routine uses set forth in the applicable DOT system notice, DOT/ALL 8 (Employee Transportation Facilitation), or any successor system notice for that system; and

(2) May be disclosed to other investigatory or law enforcement authorities, where necessary, to investigate, prosecute, discipline, or pursue other appropriate action against suspected program fraud or abuse, if any.

See Appendix I for other ways that the Privacy Act allows the FTC to use and disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Records are maintained in paper format. Copies of transit subsidy applications are sent by facsimile transmission to the Department of Transportation.

RETRIEVABILITY:

Records are maintained and retrieved alphabetically by employee’s last name.

SAFEGUARDS:

Access is restricted to FTC personnel or contractors whose responsibilities require access. Records are maintained in locked file cabinets, accessible only to the program manager or other FTC staff whose job duties require access. FTC buildings are guarded and monitored by security personnel, cameras, ID checks, and other physical security measures. Obsolete records are destroyed by disposal in burn bags, by shredding, or by similarly secure means.

RETENTION AND DISPOSAL:

Retained and destroyed in accordance with applicable schedules and procedures issued or approved by the National Archives and Records Administration. Records are temporary and maintained in the system while the employee is participating in the program. Records are removed from the system and destroyed by secure means (see “Safeguards”) when the employee has transferred or separated from the agency or is otherwise no longer a program participant.

SYSTEM MANAGER(S) AND ADDRESS:

Director, Administrative Services Office, Office of the Executive Director, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Past and current FTC employees who have applied to participate in the subsidy program; FTC offices; Department of Transportation.

EXEMPTIONS CLAIMED FOR THE SYSTEM:

None.

IV. FTC Correspondence Systems of Records

FTC-IV-1

SYSTEM NAME:

Consumer Information System—FTC.

SECURITY CLASSIFICATION:

Not applicable.

SYSTEM LOCATION:

Federal Trade Commission, 600 Pennsylvania Avenue, NW., Washington, DC 20580. This system is operated off-site by a contractor. See Appendix III.

CATEGORIES OF INDIVIDUALS COVERED BY THE SYSTEM:

(1) Individual consumers who submit complaints to the FTC about identity theft, or the business practices of a company or individual, as well as consumers who request information or assistance.

(2) Individuals who submit their complaints about identity theft or the business practices of a company or individual to another organization that has agreed to provide its consumer complaint information to the FTC.

(3) Individuals acting on behalf of another consumer to submit the other consumer’s complaint about identity theft, or the business practices of a company or individual, or to request information or assistance on behalf of another individual.

(4) Individuals who are the subjects of complaints about identity theft or about the business practices of a company or individual.

(5) FTC or contractor staff assigned to process or respond to such communications.

(6) Other system users outside the FTC (e.g., law enforcement agencies authorized to have access to the system under confidentiality agreements).

CATEGORIES OF RECORDS IN THE SYSTEM:

(1) Personally identifying information about the individual who submits a complaint or requests information or assistance, including, for example, the individual’s name, address, telephone number, fax number, date of birth, Social Security or credit card numbers, e-mail address and other personal information extracted or summarized from the individual's complaint.

(2) Personally identifying information about the individual who submits a complaint or requests information or assistance on behalf of someone else, including, for example, the submitting individual’s name, address, phone or fax number and e-mail address.

(3) The name, address, telephone number or other information about an individual who is the subject of a complaint, or is allegedly associated with the subject of a complaint. (Information in the system about companies or other non-individuals is not covered by the Privacy Act.)

(4) The name and reference number of FTC or contractor staff person who entered or updated the complaint information in the database.

(5) Name, organization, and contact data for system users outside the FTC (e.g., staff of other authorized law enforcement agencies).

AUTHORITY FOR MAINTENANCE OF THE SYSTEM:

Federal Trade Commission Act, 15 U.S.C. 41 et seq.; section 5 of the Identity Theft and Assumption Deterrence Act of 1998 (ITADA), 18 U.S.C. 1028 note.

PURPOSE(S):

To maintain records of complaints and inquiries from individual consumers; to track and respond to such communications (e.g., providing information to consumers over the phone or fulfilling requests by consumers to be mailed copies of FTC publications); identify consumer problems and issues that may lead to law enforcement investigations, litigation, or other proceedings; to be used in and made part of the records of such proceedings, or to be referred to other person, entities, or authorities, where appropriate, covered by other Privacy Act system of records notices; and to provide statistical data on the number and types of complaints or other communications received by the FTC. Also, to satisfy the requirement of the ITADA that the FTC compile and refer ID theft complaints to “appropriate entities,” and to provide useful information that may contribute to regulation and oversight of institutions and systems that play a role in or are affected by fraudulent business practices or identity theft.

ROUTINE USES OF RECORDS MAINTAINED IN THE SYSTEM, INCLUDING CATEGORIES OF USERS AND THE PURPOSES OF SUCH USES:

(1) Consumer complaints can be disclosed to the subject of the complaint for purposes of attempting to resolve the complaint;

(2) ID theft complaints also can be disclosed to the three major national credit reporting agencies and other appropriate entities to fulfill the requirements of section 5 of the ITADA; and

(3) Contact data for non-FTC users of this system (e.g., staff of authorized law enforcement agencies) can be shared among such users or with others within or outside the FTC to enable them to communicate with one another.

See Appendix I for other ways that the Privacy Act allows the FTC to use or disclose system records outside the agency.

DISCLOSURE TO CONSUMER REPORTING AGENCIES:

Identity theft complaints may be referred to consumer reporting agencies, as authorized by the ITADA. Disclosure of system records is also authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Communications are received from consumers in a variety of paper and electronic formats (e.g., by letter, e-mail, Web-based form, facsimile, telephone, TTY). The FTC maintains a Consumer Response Center, which can be reached through a toll-free telephone numbers, for the collection of complaints from consumers. Communications referred to the FTC from other sources (e.g., other law enforcement agencies, private consumer protection organizations) may also be provided to the FTC in paper or electronic format (e.g., by letter, e-mail, CD-ROM, disk drive). Data from such communications are entered into a structured electronic database maintained by a contractor on the agency’s behalf, and accessible by Web-based interface to FTC staff, contractors, and other authorized users (e.g., law enforcement partners) subject to strict access and security controls (see “Safeguards” below).

RETRIEVABILITY:

Records may be retrieved and indexed by any category of data that is submitted by consumers or otherwise compiled in association with such records (e.g., name, subject of the complaint).

SAFEGUARDS:

Access by FTC staff, contractors, and other system users, such as authorized personnel of other law enforcement agencies through a Web-based interface, is authorized only on a need-to-know basis to those individuals and organizations whose responsibilities require access. Contractors and other non-FTC users are also required to sign confidentiality and nondisclosure agreements, and, in some cases, are required to undergo additional security clearance procedures. Letters or other system records in paper format are maintained in lockable rooms and cabinets. Electronic database access is controlled by “user ID” and password combination. Security tokens are also used for remote electronic access. The system database is maintained on secure servers, protected by firewalls, access and usage logs, and other security controls. Servers are maintained in a secure physical environment, including building locks, security guards, and cameras.

RETENTION AND DISPOSAL:

Records are retained and destroyed in accordance with schedules and procedures issued or approved by the National Archives and Records Administration.

SYSTEM MANAGER(S) AND ADDRESS:

Assistant Director, Division of Planning and Information, Bureau of Consumer Protection, Federal Trade Commission, 600 Pennsylvania Avenue, NW., Washington, DC 20580.

NOTIFICATION PROCEDURE; RECORD ACCESS PROCEDURES; AND CONTESTING RECORD PROCEDURES:

See Appendix II. Individuals who call the FTC’s Consumer Response Center can also use their FTC reference number to identify complaints they have previously submitted in order to update them.

RECORD SOURCE CATEGORIES:

Consumers and entities who communicate with the FTC; FTC staff and contractors; other law enforcement agencies and non-FTC organizations.

EXEMPTIONS CLAIMED FOR THE SYSTEM:

None.

FTC-IV-2

SYSTEM NAME:

Miscellaneous Office Correspondence Tracking System Records--FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who correspond with individual FTC offices (e.g., members of Congress, counsel for regulated entities, consumers); FTC staff assigned to or responsible for supervising, responding or taking other action on correspondence, assignments, or other matters that may also be tracked in the system.

CATEGORIES OF RECORDS IN THE SYSTEM:

Name; matter name, number and/or description of the correspondence, assignment, or other matter; date of receipt or assignment, date of response, action, or other relevant dates; FTC organization and other internal administrative codes.

AUTHORITY FOR MAINTENANCE OF THE SYSTEM:

Federal Trade Commission Act, 15 U.S.C. 41 et seq.

PURPOSE(S):

For the Office of the Secretary and certain other offices within the Commission to log and track the receipt, processing, and response, referral, or other action taken by those offices on correspondence, assignments or other agency matters for which those offices are responsible in whole or part; to help manage workloads, anticipate resources needed, and ensure that a response or other necessary or appropriate action is taken by those offices in a timely and complete manner; and to maintain records of the offices’ responses or other actions taken on correspondence, assignments or other matters. (This system encompasses matter tracking records similar to, but maintained and managed separately from, those in FTC-I-5, Matter Management System—FTC.)

ROUTINE USES OF RECORDS MAINTAINED IN THE SYSTEM, INCLUDING CATEGORIES OF USERS AND THE PURPOSES OF SUCH USES:

When correspondence is referred to the FTC by a member of Congress, official committee or subcommittee, or other Government entity or official, the FTC may disclose to such official or authorized staff of such entity or official the status of the FTC’s handling and processing of such correspondence.

See Appendix I for other ways that the FTC can use and disclose these system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Electronic records and printed reports.

RETRIEVABILITY:

Name of corresponding or referring individual, and/or of FTC staff with responsibility for supervising, processing, responding or otherwise handling the correspondence or other matter. System records may also be retrieved by other system search fields or parameters not pertaining to an individual (e.g., matter or tracking number, date, FTC organization code).

SAFEGUARDS:

Access is restricted to agency personnel or contractors whose responsibilities require access. Paper records are maintained in lockable rooms or file cabinets. Access to electronic records is controlled by “user ID” and password combination and/or other network access or security controls (e.g., firewalls). FTC buildings are guarded and monitored by security personnel, cameras, ID checks, and other physical security measures.

RETENTION AND DISPOSAL:

Records are retained and destroyed in accordance with applicable schedules and procedures issued or approved by the National Archives and Records Administration.

SYSTEM MANAGER(S) AND ADDRESS:

Secretary, Federal Trade Commission, 600 Pennsylvania Ave., NW., Washington, DC 20580. Other

NOTIFICATION PROCEDURE; RECORD ACCESS PROCEDURES; AND CONTESTING RECORD PROCEDURES:

See Appendix II.

RECORD SOURCE CATEGORIES:

FTC staff; incoming and outgoing correspondence; internal memoranda or other FTC documents.

EXEMPTIONS CLAIMED FOR THE SYSTEM:

None.

FTC-IV-3

SYSTEM NAME:

National Do Not Call Registry System—FTC.

SECURITY CLASSIFICATION:

Not applicable.

SYSTEM LOCATION:

Federal Trade Commission, 600 Pennsylvania Avenue, NW., Washington, DC 20580. System database is maintained and operated off-site by a contractor. See Appendix III.

CATEGORIES OF INDIVIDUALS COVERED BY THE SYSTEM:

Individuals who notify the Commission that they do not wish to receive telemarketing calls. Individually identifiable information (e.g., name, e-mail address) that telemarketers, sellers, or their agents must submit when paying for and obtaining access to the system is covered by this system only to the extent, if any, that such information is “about [the] individual” within the meaning of the Privacy Act, and is not about the telemarketer, seller, or agent acting in a non-individual business capacity.

CATEGORIES OF RECORDS IN THE SYSTEM:

Telephone numbers of individuals who do not wish to receive telemarketing calls; information automatically generated by the system, including date and/or time that the telephone number was placed on or removed from the Registry; and other information that the individual may be asked to provide voluntarily (such as e-mail address, if the individual registers through the National Do Not Call Registry Web site). Telemarketers, sellers, and their agents are also required to submit information to pay for and obtain authorized access to the system, including the names of, or other identifiers that may be associated with, individuals (e.g., name of contact person, name of the person to whom the credit card is issued, e-mail address, etc.). Such information is part of this FTC system of records only to the extent, if any, that such information is maintained in the FTC’s records and is “about [the] individual” within the meaning of the Privacy Act, and not about a telemarketer, seller, or agent acting in a non-individual business capacity.

Otherwise, user fee payment data from telemarketers, sellers, and their agents required to participate in the National Do Not Call Registry are principally collected and maintained on behalf of the Government by the www.pay.gov Web site operated by the Department of Treasury Financial Management Service (FMS). Those data are covered by the applicable system notice published by Treasury/FMS, Treasury/FMS.017 (Collections Records), and any successor system notice that may be published for that system.

AUTHORITY FOR MAINTENANCE OF THE SYSTEM:

Federal Trade Commission Act, 15 U.S.C. 41 et seq., Telemarketing and Consumer Fraud and Abuse Prevention Act, 15 U.S.C. 6101-6108; Do-Not-Call Implementation Act, Pub. L. No. 108-10 (2003).

PURPOSE(S):

To maintain records of the telephone numbers of individuals who do not wish to receive telemarketing calls; to disclose such records to telemarketers, sellers, and their agents in order for them to reconcile their do-not-call lists with the Registry and comply with the do-not-call provisions of the Commission’s Telemarketing Sales Rule, 16 CFR Part 310; to enable the Commission and other law enforcement officials to determine whether a company is complying with the Rule; to provide statistical data that may lead to or be incorporated into law enforcement investigations and litigation; or for other law enforcement, regulatory or informational purposes. Information submitted by or compiled on telemarketers, sellers, and their agents is used for purposes of fee collection, authorizing their access to the system, and related purposes and uses as described in this notice.

ROUTINE USES OF RECORDS MAINTAINED IN THE SYSTEM, INCLUDING CATEGORIES OF USERS AND THE PURPOSES OF SUCH USES:

(1) Telephone numbers, but not any e-mail addresses, submitted by individuals may be made available or referred on an automatic or other basis to telemarketers, sellers, and their agents for the purpose of determining or verifying that an individual does not wish to receive telemarketing calls;

(2) Information submitted by or compiled on telemarketers, sellers, and their agents may be used and disclosed to other Federal, state, or local government authorities for payment or billing purposes, including referral to debt collection agencies or other governmental entities for collection, tax reporting, or other related purposes. Information that is submitted by or compiled on telemarketers, sellers, and their agents and that is incorporated into the www.pay.gov system shall also be subject to routine uses, if any, that may be separately published for that system, Treasury/FMS.017 (Collections Records), or any successor system notice for that system.

See Appendix I for other ways that the FTC can use and disclose these system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Records in the system are collected and maintained by an off-site FTC contractor in an electronic database with Web-based access subject to strict security controls (see “Safeguards” below).

RETRIEVABILITY:

Indexed by area code and phone number of individuals who have informed the Commission that they do not wish to receive telemarketing calls. May also be retrieved by other data, if any, compiled or otherwise maintained with the record. For information submitted by or compiled on telemarketers, sellers, or their agents, records may be indexed and retrieved by any category of data that is submitted by or compiled on such telemarketers, sellers, or agents.

SAFEGUARDS:

Access is generally restricted to those agency personnel, contractors and other law enforcement users subject to confidentiality agreements whose responsibilities require access, or to approved telemarketers, sellers, and their agents. Electronic access is subject to login ID, password, and other electronic access and security controls (e.g., firewalls). Contractors are required to sign confidentiality and nondisclosure agreements.

RETENTION AND DISPOSAL:

Automated information retained indefinitely, until deleted pursuant to request by the subject individual, or deleted automatically after certain period of time, to be determined by the Commission, in accordance with applicable schedules and procedures issued or approved by the National Archives and Records Administration. (The retention and destruction of payment data collected from telemarketers, sellers, and their agents by Treasury’s FMS is described in the system notice for the www.pay.gov system, Treasury/FMS.017.)

SYSTEM MANAGER(S) AND ADDRESS:

National Do Not Call Registry Program Manager, Division of Planning and Information, Bureau of Consumer Protection, Federal Trade Commission, 600 Pennsylvania Avenue, NW., Washington, DC 20580.

See Treasury/FMS.017 for the system manager and address of the www.pay.gov system.

NOTIFICATION PROCEDURE:

To obtain notification of whether the system contains a record pertaining to that individual (i.e., the individual’s telephone number), individuals use a dial-in system or a designated Web site that will enable the identification and verification of their telephone numbers. Individuals filing written requests pursuant to 16 CFR 4.13 will be acknowledged and directed to use those automated systems. To the extent, if any, that the Privacy Act applies to information submitted by or compiled on telemarketers, sellers, or their agents, the system provides notice (i.e., confirms) that the system is maintaining such information when an individual accesses the system using the account number that was previously assigned to the telemarketer, seller, or agent at the time that entity originally entered information into the system to establish the relevant account.

RECORD ACCESS PROCEDURES:

To request access to any information maintained with your registration that is not available to you through the automated dial-in system or the designated Web site described in the notification procedures above, you must submit your request in writing. See Appendix II for details. The same access procedure applies to the extent, if any, that the Privacy Act applies to information submitted by or compiled on telemarketers, sellers, or their agents, where that information is not made available for review or amendments when the telemarketer, seller, or agent accesses the system.

CONTESTING RECORD PROCEDURES:

Where an individual believes the system has erroneously recorded or omitted information that is collected and maintained by the system, the individual will be afforded the opportunity to register, change, or delete that information after the automated system identifies and verifies the telephone number from which the individual is calling, if the individual is using the designated Web site, or the individual provides other identifying information, if requested by the automated system. To contest the accuracy of any other information that is not accessible to the individual through the automated dial-in system or Web site as described in the “Notification procedures” section above, the request must be submitted to the FTC in writing. See Appendix II for details. The same written request requirement applies to telemarketers, sellers, or their agents (to the extent, if any, that they are “individuals” within the meaning of the Privacy Act) when seeking to contest the accuracy of system information maintained on them, except for system information, if any, that can be contested or corrected through the automated system.

RECORD SOURCE CATEGORIES:

Individuals who inform the Commission through the procedures established by the Commission that they do not wish to receive telemarketing calls. Some records may come from do-not-call lists that some states or organizations separately maintain. Record sources for this system may also include telemarketers, sellers, and agents, but only to the extent, if any, that they are “individuals” within the meaning of the Privacy Act.

EXEMPTIONS CLAIMED FOR THE SYSTEM:

None.

V. FTC Access Requests

FTC-V-1

SYSTEM NAME:

Freedom of Information Act Requests and Appeals—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals filing requests for access to information under the Freedom of Information Act (FOIA); individuals named in the FOIA request; FTC staff assigned to help process, consider, and respond to such requests, including any appeals.

CATEGORIES OF RECORDS IN THE SYSTEM:

Communications (e.g., letters, e-mails) to and from the requesting party; agency documents generated or collected during processing and consideration of the request, including scanned copies of materials responsive to the FOIA request.

AUTHORITY FOR MAINTENANCE OF THE SYSTEM:

Federal Trade Commission Act, 15 U.S.C. 41 et seq.; Freedom of Information Act, 5 U.S.C. 552.

PURPOSE(S):

To consider requests and appeals for access to records under the Freedom of Information Act; to determine the status of requested records; to respond to the requests and appeals; to make copies of FOIA requests and frequently requested records available publicly, under the FTC’s Rules of Practice and FOIA; to maintain records, documenting the consideration and disposition of the requests for reporting, analysis, and recordkeeping purposes.

ROUTINE USES OF RECORDS MAINTAINED IN THE SYSTEM, INCLUDING CATEGORIES OF USERS AND THE PURPOSES OF SUCH USES:

(1) Request and appeal letters, and agency letters responding thereto, are placed on the FTC’s public record and available to the public for routine inspection and copying. See FTC-I-6 (Public Records—FTC).

(2) As required by the FOIA, records that have been “frequently requested” and disclosed under the FOIA within the meaning of that Act, as determined by the FTC, are made available to the public for routine inspection and copying. See FTC-I-6 (Public Records—FTC).

See also Appendix I for other ways that the Privacy Act permits the FTC to use or disclose system records outside the agency.

DISCLOSURE TO CONSUMER REPORTING AGENCIES:

None, except as authorized under 5 U.S.C. 552a(b)(12) when trying to collect a claim of the Government. See Appendix I. For public portions of this system, see the system notice for FTC-I-6.

POLICIES AND PRACTICES FOR STORING, RETRIEVING, ACCESSING, RETAINING, AND DISPOSING OF RECORDS IN THE SYSTEM:

STORAGE:

Records are maintained electronically using a commercial software application run on the agency’s internal servers. Temporary paper files are destroyed once the request is complete. System records compiled or generated prior to fiscal year 2004 are maintained in paper format.

RETRIEVABILITY:

Indexed by name of requesting party and subject matter of request. Records can also be searched by name, address, phone number, fax number, and e-mail of the requesting party, subject matter of the request, requestor organization, FOIA number, and staff member assigned to the request.

SAFEGUARDS:

Requests, appeals, and responses available to the public, as described above. Access to nonpublic system records is restricted to FTC personnel or contractors whose responsibilities require access. Nonpublic paper records are temporary, maintained in lockable file cabinets or offices, and destroyed once the request is complete. Access to electronic records is controlled by “user ID” and password combination and other electronic access or network controls (e.g., firewalls). FTC buildings are guarded and monitored by security personnel, cameras, ID checks, and other physical security measures.

RETENTION AND DISPOSAL:

Records are retained and disposed of in accordance with General Records Schedule 14.11-14.15, issued by the National Archives and Records Administration.

SYSTEM MANAGER(S) AND ADDRESS:

FOIA/PA Supervisor, Office of General Counsel, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained and agency staff assigned to help process, review, or respond to the access request, including any appeal.

EXEMPTIONS CLAIMED FOR THE SYSTEM:

Records contained in this system that have been placed on the FTC public record are available upon request, as discussed above. However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

FTC-V-2

SYSTEM NAME:

Privacy Act Requests and Appeals—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals filing requests for access to, correction of, or an accounting of disclosures of personal information contained in system of records maintained by the Commission, pursuant to the Privacy Act; FTC staff assigned to help process, consider, and respond to such requests, including any appeals.

CATEGORIES OF RECORDS IN THE SYSTEM:

Requests and other communications and documents generated or compiled by the FTC to process, review, and respond to the Privacy Act request, including any appeals.

AUTHORITY FOR MAINTENANCE OF THE SYSTEM:

Federal Trade Commission Act, 15 U.S.C. 41 et seq.; Privacy Act, 5 U.S.C. 552a.

PURPOSE(S):

To process and review requests and appeals for access to, correction of, or an accounting of disclosure of records under the Privacy Act; to determine the status of requested records or the request for correction or disclosure; to respond to such requests and appeals; and to maintain records documenting the consideration and disposition of these requests for reporting, analysis, and recordkeeping purposes.

ROUTINE USES OF RECORDS MAINTAINED IN THE SYSTEM, INCLUDING CATEGORIES OF USERS AND THE PURPOSES OF SUCH USES:

See Appendix I for ways that the Privacy Act permits the FTC to disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

System records are stored and maintained electronically using a commercial software run on the agency’s internal network servers. Temporary paper files are destroyed once the request is complete. System records compiled or generated prior to fiscal year 2004 are maintained in paper format.

RETRIEVABILITY:

Indexed by name of requesting party. Records can also be searched by address, phone number, fax number, and email of the requesting party, subject matter of the request, requestor organization, FOIA number, and staff member assigned to request.

SAFEGUARDS:

Access to nonpublic system records is restricted to FTC personnel or contractors whose responsibilities require access. Nonpublic paper records are temporary, maintained in lockable file cabinets or offices, and destroyed once the request is complete. Access to electronic records is controlled by “user ID” and password combination and other electronic access or network controls (e.g., firewalls). FTC buildings are guarded and monitored by security personnel, cameras, ID checks, and other physical security measures.

RETENTION AND DISPOSAL:

Records are retained and disposed of in accordance with General Records Schedule 14.11-14.15, issued by the National Archives and Records Administration.

SYSTEM MANAGER(S) AND ADDRESS:

FOIA/PA Supervisor, Office of the General Counsel, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom record is maintained and agency staff agency staff assigned to help process, review or respond to the request, including any appeal.

EXEMPTIONS CLAIMED FOR THE SYSTEM:

Pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

FTC-V-3 [Deleted]

VI. FTC Mailing List Systems of Records

FTC-VI-1

SYSTEM NAME:

Mailing and Contact Lists—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who have indicated an interest in receiving FTC materials or who are participants or contacts in matters under consideration at the FTC; other individuals who may be regular resources, contacts, or leads for various FTC subject matter areas or programs.

CATEGORIES OF RECORDS IN THE SYSTEM:

System records contain some or all of the following: name; title; company or organization; mailing address; e-mail address; telephone number; date. This system includes bulk order mailing lists, sign-in sheets or rosters compiled at meetings and workshops held at or by the FTC, contact lists developed from publicly available information or information provided by the relevant individual (e.g., business cards), or other similar, miscellaneous contact and address lists.

This system excludes mailing or contact lists or similar records collected or maintained under other FTC systems of records. For example, addresses or other contact information for individuals who make requests through the FTC’s Consumer Response Center to be mailed FTC materials are covered by FTC IV-1 (Consumer Information System—FTC). Mailing lists prepared for serving official documents in Commission proceedings or for other law enforcement purposes (e.g., administering consumer redress) are covered by FTC I-1 (Nonpublic Investigatory and Other Nonpublic Legal Program Records—FTC).

AUTHORITY FOR MAINTENANCE OF THE SYSTEM:

Federal Trade Commission Act, 15 U.S.C. 41 et seq.

PURPOSE(S):

To assist the Commission in the distribution of documents and information to individuals who request such materials; to maintain lists of media, Congressional, business, or other contacts for future reference.

ROUTINE USES OF RECORDS MAINTAINED IN THE SYSTEM, INCLUDING CATEGORIES OF USERS AND THE PURPOSES OF SUCH USES:

Records in this system may be compiled by or disclosed to FTC contractors in fulfilling requests for FTC materials or sending other FTC communications to individuals covered by this system.

See Appendix I for other ways that the Privacy Act permits the FTC to disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Paper or electronic format. Electronic records may be stored using commercial software applications.

RETRIEVABILITY:

Indexed by individual’s name. When records are stored electronically, records may also be searched and retrieved by other data, such as by phone number, address, ZIP or area code, etc.

SAFEGUARDS:

Access is restricted to FTC personnel or contractors whose responsibilities require access. Paper records are maintained in lockable offices or file cabinets. Access to electronic records is controlled by “user ID” and password combination and/or other electronic access or network controls (e.g., firewalls). FTC buildings are guarded and monitored by security personnel, cameras, ID checks, and other physical security measures.

RETENTION AND DISPOSAL:

Records are retained until the individual requests deletion from the agency’s list, or when distribution of records from the associated matter is not anticipated, or as otherwise prescribed under record schedules and procedures issued or approved by the National Archives and Records Administration.

SYSTEM MANAGER(S) AND ADDRESS:

Associate Director, Division of Consumer and Business Education, Federal Trade Commission, 600 Pennsylvania Avenue, NW., Washington, DC, 20580.

Director, Office of Public Affairs, Federal Trade Commission, 600 Pennsylvania Avenue, NW., Washington, DC, 20580.

For all other FTC offices: Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individuals requesting FTC information, commercial directories or other public sources, attendees at FTC meetings or other events, and staff members involved in Commission proceedings.

EXEMPTIONS CLAIMED FOR THE SYSTEM:

None.

VII. FTC Miscellaneous Systems of Records

FTC-VII-1

SYSTEM NAME:

Automated Library Management System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC personnel who request that copies of FTC Library periodicals or other publications in the Library’s collection be routinely circulated (routed) to them within the FTC; authors of books, periodicals, or other publications indexed in the Library’s collection.

CATEGORIES OF RECORDS IN THE SYSTEM:

Name and office location of the FTC individual making a routing request, employee identification number, and the name and number of the periodical; names of authors or other individuals indexed or associated with books or other publications maintained in the FTC Library’s collection or requested through inter-library loans.

AUTHORITY FOR MAINTENANCE OF THE SYSTEM:

Federal Trade Commission Act, 15 U.S.C. 41 et seq.

PURPOSE(S):

To manage the FTC Library’s acquisition and collection of books, periodicals and other publications; to fulfill requests for the routing of serials among FTC employees; to electronically index or search for holdings in the FTC Library’s collection.

ROUTINE USES OF RECORDS MAINTAINED IN THE SYSTEM, INCLUDING CATEGORIES OF USERS AND THE PURPOSES OF SUCH USES:

See Appendix I for ways that the Privacy Act permits the FTC to use or disclose system records outside the agency.

DISCLOSURE TO CONSUMER REPORTING AGENCIES:

None, except as authorized under 5 U.S.C. 552a(b)(12) when trying to collect a claim of the Government. V Appendix I.

POLICIES AND PRACTICES FOR STORING, RETRIEVING, ACCESSING, RETAINING, AND DISPOSING OF RECORDS IN THE SYSTEM:

STORAGE:

Electronic database using a commercially available software application.

RETRIEVABILITY:

Indexed by periodical number, employee identification number, author, or other information in the system.

SAFEGUARDS:

Access restricted to staff or contractor personnel whose responsibilities require access. Access to electronic records is controlled by “user ID” and password combination and/or other appropriate electronic access or network controls (e.g., firewalls). (This limitation does not apply to searchable online catalog made available in the FTC Library.) FTC buildings are guarded and monitored by security personnel, cameras, ID checks, and other physical security measures.

RETENTION AND DISPOSAL:

Records are retained and disposed of in accordance with applicable schedules and procedures issued or approved by the National Archives and Records Administration.

SYSTEM MANAGER(S) AND ADDRESS:

Head Librarian, Library, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained; author or other publication data associated with the book, periodical or other publication; system users.

EXEMPTIONS CLAIMED FOR THE SYSTEM:

None.

FTC-VII-2

SYSTEM NAME:

Employee Locator (STAFFID) System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC employees, contractors, volunteers or others (e.g., students) working for or at the FTC.

CATEGORIES OF RECORDS IN THE SYSTEM:

Name, employee identification number, building code, office room number, office telephone, mail drop code, electronic mail user identification, default printer designation, other identification codes or data.

AUTHORITY FOR MAINTENANCE OF THE SYSTEM:

Federal Trade Commission Act, 15 U.S.C. 41 et seq.

PURPOSE(S):

To maintain records that will assist in locating and communicating with FTC employees, contractors, etc.; to identify mail locator listings used by mail room personnel; and to identify, in other Commission automated information systems, Commission staff names and locations; to help document the check-in/check-out process for employees or others entering or leaving FTC service. This system is a core data source for other FTC automated systems to draw basic identifying information about FTC employees and others working for or at the Commission.

ROUTINE USES OF RECORDS MAINTAINED IN THE SYSTEM, INCLUDING CATEGORIES OF USERS AND THE PURPOSES OF SUCH USES:

(1) To produce the FTC Directory which is used by all agency personnel and made available to the public; and

(2) To provide employee locator information to the public.

See Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

FTC Directory printed and distributed to staff and the public, and posted on the agency’s Web site. System is maintained electronically in a structured database on agency network servers.

RETRIEVABILITY:

Indexed by individual’s name, employee identification number, and database can also be searched by other data fields or codes.

SAFEGUARDS:

Certain information is available to the public through locator information and posting of the FTC Directory online. Access to other information is restricted to agency personnel or contractors whose responsibilities require access. Access to nonpublic electronic records is controlled by “user ID” and password combination and/or other appropriate electronic access or network controls (e.g., firewalls). FTC buildings are guarded and monitored by security personnel, cameras, ID checks, and other physical security measures.

RETENTION AND DISPOSAL:

Records are retained and destroyed in accordance with applicable schedules and procedures issued or approved by the National Archives and Records Administration.

SYSTEM MANAGER(S) AND ADDRESS:

Assistant Chief Information Officer, Infrastructure Operations, Office of Information Technology & Management, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained; administrative officers or other staff who manage the staff check-in/check-out process; personnel records.

EXEMPTIONS CLAIMED FOR THE SYSTEM:

None.

FTC-VII-3

SYSTEM NAME:

Computer Systems User Identification and Access Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Commission employees and others (e.g., contractors) with access to FTC computer systems operated by the FTC or by a contractor for the FTC.

CATEGORIES OF RECORDS IN THE SYSTEM:

Name; employee identification number; organization; systems to which individual has access; systems and services used; amount of time spent using each system; number of usage sessions; cost of some usage; user profiles. This system includes log-in files, password files, system usage files when they contain records on specific users, and, where applicable, cost-back files used to assess charges for system use.

AUTHORITY FOR MAINTENANCE OF THE SYSTEM:

Federal Trade Commission Act, 15 U.S.C. 41 et seq.; Federal Information Security Management Act of 2002, Pub. L. 107-347, Title III.

PURPOSE(S):

To monitor and control costs of usage of computer systems; to prepare budget requests for automated services; to identify the need for and to conduct training programs; to monitor security on computer systems; to add and delete users; to help document and/or control access to computer systems, platforms, applications and databases (e.g., Outlook, Oracle, Business Objects); to investigate and make referrals for disciplinary or other action if improper or unauthorized use is suspected or detected.

ROUTINE USES OF RECORDS MAINTAINED IN THE SYSTEM, INCLUDING CATEGORIES OF USERS AND THE PURPOSES OF SUCH USES:

Records in this system may be disclosed to contractors in connection with developing, maintaining, operating or servicing FTC computerized systems.

See Appendix I for other ways that the Privacy Act allows the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Electronic and paper records.

RETRIEVABILITY:

Indexed by individual’s name; employee identification number; and organization code, or other searchable data fields or codes.

SAFEGUARDS:

Access is restricted to agency personnel and contractors whose responsibilities require access. Paper records, if any, maintained in lockable rooms or file cabinets. Access to electronic records is controlled by “user ID” and password combination and/or other appropriate electronic access or network controls (e.g., firewalls). FTC buildings are guarded and monitored by security personnel, cameras, ID checks, and other physical security measures.

RETENTION AND DISPOSAL:

See National Archives and Records Administration General Records Schedule 20.1 (Files/Records Relating to the Creation, Use, and Maintenance of Computer Systems, Applications, or Electronic Records) and 24.6 (User Identification, Profiles, Authorizations and Password Files). Records are deleted when no longer needed for administrative, legal, audit, or other operational purposes.

SYSTEM MANAGER(S) AND ADDRESS:

Assistant Chief Information Officer, Infrastructure Operations, Office of Information And Technology Management, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom record is maintained; internal and external information systems that record usage.

EXEMPTIONS CLAIMED FOR THE SYSTEM:

None.

FTC-VII-4

SYSTEM NAME:

Call Detail Records—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

FTC personnel, consultants, and contractors assigned office telephones, cell phones, telephone calling cards, pagers or other telecommunications resources.

CATEGORIES OF RECORDS IN THE SYSTEM:

Name, office telephone number, cell phone number, telephone calling card number, pager number, originating telephone number, telephone numbers called, length of telephone calls, cost of telephone calls.

AUTHORITY FOR MAINTENANCE OF THE SYSTEM:

Federal Trade Commission Act, 15 U.S.C. 41 et seq.

PURPOSE(S):

To manage agency telecommunications resources; to monitor appropriate use of such resources; to detect and deter possible improper or unauthorized use of such resources; in cases where such use is detected, to determine whether disciplinary or other action, assessment, charge, or referral is warranted; to determine appropriate types and levels of service that should be available to agency staff; and to review and authorize payment of telecommunications invoices.

ROUTINE USES OF RECORDS MAINTAINED IN THE SYSTEM, INCLUDING CATEGORIES OF USERS AND THE PURPOSES OF SUCH USES:

Records in this system may be disclosed:

(1) To a telecommunications company and/or the General Services Administration when providing the FTC with telecommunications support in order to verify billing or perform other servicing to the account; and

(2) To respond to a Federal agency’s request made in connection with the hiring or retention of an employee, the letting of a contract or issuance of a grant, license or other benefit by the requesting agency, but only to the extent that the information disclosed is relevant and necessary to the requesting agency’s decision on the matter.

See Appendix I for other ways that the Privacy Act permits the FTC to disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Maintained in paper and/or other digital or non-digital formats.

RETRIEVABILITY:

Indexed by office telephone number, cell phone number, pager number, or telephone calling card number, or individual's name.

SAFEGUARDS:

Access is restricted to agency and contractor personnel whose official responsibilities require access. Paper records are maintained in lockable cabinets or offices. Access to electronic records is protected by “user ID” and password combination and/or other electronic access and network controls (e.g., firewalls). FTC buildings are guarded and monitored by security personnel, cameras, ID checks, and other physical security measures.

RETENTION AND DISPOSAL:

See National Archives and Records Administration General Records Schedule 12. Under that schedule, records are destroyed when they are three years old, and may be destroyed earlier once information needed to identify abuse has been captured in other records.

SYSTEM MANAGER(S) AND ADDRESS:

Assistant Chief Information Officer, Infrastructure Operations, Office of Information and Technology Management, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Telephone assignment records; computer software that captures telephone call information and permits query and reports generation; logs, reports, or other service records that the FTC may receive from telecommunications service providers.

EXEMPTIONS CLAIMED FOR THE SYSTEM:

None.

FTC-VII-5

SYSTEM NAME:

Property Management System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Past and present Commission employees or others assigned responsibility for Commission physical resources.

CATEGORIES OF RECORDS IN THE SYSTEM:

Name of individual; employee or other identification number; property item assigned to individual; equipment maintenance information. This system also includes miscellaneous property management records pertaining to individuals assigned specific items of agency property, such as property passes or acknowledgment forms completed and signed by individuals.

AUTHORITY FOR MAINTENANCE OF THE SYSTEM:

Federal Trade Commission Act, 15 U.S.C. 41 et seq.; Federal Property and Administrative Services Act of 1949; Pub. L. 84-863 (1956).

PURPOSE(S):

To maintain and control physical resources, including to document the assignment to and acknowledgment of individual responsibility for such resources; to conduct routine and periodic maintenance on equipment; to maintain, confirm, and audit an inventory of physical resources.

ROUTINE USES OF RECORDS MAINTAINED IN THE SYSTEM, INCLUDING CATEGORIES OF USERS AND THE PURPOSES OF SUCH USES:

Records in this system may be disclosed to contractors in connection with surveying, maintaining, or otherwise servicing or tracking agency physical resources.

See Appendix I for other ways that the Privacy Act permits the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Electronic and paper records.

RETRIEVABILITY:

Indexed by employee name, employee identification number, and assigned organization.

SAFEGUARDS:

Access is restricted to agency personnel or contractors whose responsibilities require access. Paper records are maintained in lockable rooms or file cabinets. Access to electronic records is controlled by “user ID” and password combination and/or other appropriate electronic access and network controls (e.g., firewalls). FTC buildings are guarded and monitored by security personnel, cameras, ID checks, and other physical security measures.

RETENTION AND DISPOSAL:

See General Records Schedule 18.12 (Property Pass Files), 18.15 (Personal Property Accountability Files), 18.16 (Key Accountability Files), and other schedules or procedures that may be issued or approved by the National Archives and Records Administration. Retention periods can vary from 3 months to 3 years, depending on the record. At the FTC, records are generally retained for the life of the physical resource.

SYSTEM MANAGER(S) AND ADDRESS:

Director, Administrative Services Office, Office of the Executive Director, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual responsible for the equipment and staff responsible for maintaining the equipment.

EXEMPTIONS CLAIMED FOR THE SYSTEM:

None.

FTC-VII-6

SYSTEM NAME:

Document Management And Retrieval System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Individuals who have written documents contained in Commission files, and other individuals whose names or other personally identifying data are used to search and retrieve documents from the system.

CATEGORIES OF RECORDS IN THE SYSTEM:

Name of author and documents written by that individual; names or other data about other individuals by which documents in the system are searched and retrieved; finding aids or document indexes. Records in this system may duplicate records included in other FTC systems of records. See, e.g., FTC-I-1 (Nonpublic Investigational and Other Nonpublic Legal Program Records—FTC), FTC-I-6 (Public Records—FTC).

AUTHORITY FOR MAINTENANCE OF THE SYSTEM:

Federal Trade Commission Act, 15 U.S.C. 41 et seq.

PURPOSE(S):

To provide staff with the ability to search for and access copies of agency documents needed for legal and economic research activities of the Commission (e.g., internal memoranda, economic reports, other agency work product); to provide FTC staff processing Freedom of Information Act or other disclosure requests with the ability to search for and access copies of potentially responsive documents outlining the actions and considerations of the Commission, individual Commissioners, and the staff; to provide the ability, once the automated system is fully implemented, to electronically manage the writing, editing, storage, retrieval and disposal of such documents (e.g., memoranda, correspondence), and to provide for additional document management functions, if any.

ROUTINE USES OF RECORDS MAINTAINED IN THE SYSTEM, INCLUDING CATEGORIES OF USERS AND THE PURPOSES OF SUCH USES:

Records in this system may be disclosed to contractors in connection with document processing, storage, disposal and similar records management and retrieval activities.

See Appendix I for other ways that the Privacy Act allows the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Older records are stored on microfiche or other formats. The system also comprises one or more structured databases using commercial software applications to search, retrieve, and manage records stored electronically.

RETRIEVABILITY:

Indexed by author of the document, or other data fields or codes.

SAFEGUARDS:

Access is restricted to agency personnel and contractors whose responsibilities require access. Paper or other non-digital records are stored in lockable file cabinets or offices. Access to electronic records is controlled by “user ID” and password combination, and/or other appropriate electronic access or network controls (e.g., firewalls). FTC buildings are guarded and monitored by security personnel, cameras, ID checks, and other physical security measures.

RETENTION AND DISPOSAL:

Records are retained and destroyed in accordance with schedules and procedures issued or approved by the National Archives and Records Administration.

SYSTEM MANAGER(S) AND ADDRESS:

Director, Records and Filings Office, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

FTC employees and others who submit documents to the Commission.

EXEMPTIONS CLAIMED FOR THE SYSTEM:

Records contained in this system that have been placed on the FTC public record are available upon request or, where applicable, made available online. See FTC-I-6 (Public Records—FTC). However, pursuant to 5 U.S.C. 552a(k)(2), records in this system, which reflect records that are contained in other systems of records that are designated as exempt, are exempt from the requirements of subsections (c)(3), (d), (e)(1), (e)(4)(G), (H), (I), and (f) of 5 U.S.C. 552a. See § 4.13(m) of the FTC Rules of Practice, 16 CFR 4.13(m).

FTC-VII-7

SYSTEM NAME:

Information Technology Service Ticket System—FTC.

SECURITY CLASSIFICATION:

Not applicable.

SYSTEM LOCATION:

Federal Trade Commission, 600 Pennsylvania Avenue, NW., Washington, DC 20580. System data are currently maintained off-site by an FTC contractor. See Appendix III.

CATEGORIES OF INDIVIDUALS COVERED BY THE SYSTEM:

FTC employees, contractors or other authorized individuals who have requested service related to the automated information technology equipment and systems available to the FTC staff (e.g., computers, laptops, etc.).

CATEGORIES OF RECORDS IN THE SYSTEM:

Records include name of requesting individual, organization code, telephone number, date of reported problem, nature of problem, and action taken to resolve problem.

AUTHORITY FOR MAINTENANCE OF THE SYSTEM:

Federal Trade Commission Act, 15 U.S.C. 41 et seq.

PURPOSE(S):

To record the receipt of requests for information technology (IT) service by the FTC's enterprise service desk (i.e., help desk) and the actions taken to resolve those requests; to provide agency management with information identifying trends in questions and problems for use in managing the Commission’s hardware and software resources. The FTC’s help desk, currently operated by a contractor, generates and maintains these records (“service tickets”) in the course of fulfilling requests or orders to create or close e-mail and other network accounts when an individual begins or ends employment at the FTC, to answer questions or provide assistance when FTC staff have problems with computer or network access or other FTC IT equipment or software issues, etc.

ROUTINE USES OF RECORDS MAINTAINED IN THE SYSTEM, INCLUDING CATEGORIES OF USERS AND THE PURPOSES OF SUCH USES:

Records in this system may be compiled and used by the FTC’s contractors to track and fulfill IT service requests.

See Appendix I for ways that the Privacy Act allows the FTC to use or disclose system records outside the agency.

DISCLOSURE TO CONSUMER REPORTING AGENCIES:

None, except as authorized by 5 U.S.C. 552a(b)(12) when trying to collect a claim of the Government. See Appendix I.

POLICIES AND PRACTICES FOR STORING, RETRIEVING, ACCESSING, RETAINING, AND DISPOSING OF RECORDS IN THE SYSTEM:

STORAGE:

Data are entered and stored in the system electronically by the FTC’s help desk contractor using proprietary software in a structured database.

RETRIEVABILITY:

Indexed by employee name and tracking number assigned to each service request.

SAFEGUARDS:

Access is restricted to agency personnel and contractors whose responsibilities require access. Electronic access to FTC records in the contractor’s database is provided via the Internet, using unique IDs and password combinations, and can be accessed only from Internet Protocol (IP) addresses belonging to the FTC. When not in use, access automatically “times out” (cuts off) after 30 minutes. The contractor’s servers have firewalls and intrusion detection, and are maintained in locked rooms secured with electronic card access.

RETENTION AND DISPOSAL:

See National Archives and Records Administration General Records Schedule 24.10 (IT Customer Service Files). Under that schedule, records may be deleted when 1 year old or when no longer needed for review or analysis, whichever is later.

SYSTEM MANAGER(S) AND ADDRESS:

Assistant Chief Information Officer for Customer Services, Office of Information and Technology Management, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained and staff who responded to the request for service.

EXEMPTIONS CLAIMED FOR THE SYSTEM:

None.

FTC-VII-8

SYSTEM NAME:

Administrative Service Call System—FTC.

SECURITY CLASSIFICATION:

Not applicable.

SYSTEM LOCATION:

Federal Trade Commission, 600 Pennsylvania Avenue, NW., Washington, DC 20580. See Appendix III for other locations where records may be maintained or accessed.

CATEGORIES OF INDIVIDUALS COVERED BY THE SYSTEM:

Current and former FTC employees, contractors, or other authorized individuals who request or previously requested service related to FTC building maintenance and administrative support services.

CATEGORIES OF RECORDS IN THE SYSTEM:

Records include name of requesting individual, organization code, telephone number, date of reported problem, nature of problem, and action taken to resolve problem.

AUTHORITY FOR MAINTENANCE OF THE SYSTEM:

Federal Trade Commission Act, 15 U.S.C. 41 et seq.

PURPOSE(S):

To record the receipt of requests for service and the actions taken to resolve those requests; to provide agency management with information identifying trends in questions and problems for use in managing the Commission’s office space, furniture, or other physical resources and property.

ROUTINE USES OF RECORDS MAINTAINED IN THE SYSTEM, INCLUDING CATEGORIES OF USERS AND THE PURPOSES OF SUCH USES:

Records in this system may be disclosed to FTC contractors as needed for purposes of fulfilling service requests.

See Appendix I for other ways that the Privacy Act allows the FTC to use or disclose system records outside the agency.

DISCLOSURE TO CONSUMER REPORTING AGENCIES:

None, except as authorized under 5 U.S.C. 552a(b)(12) when trying to collect a claim of the Government. See Appendix I.

POLICIES AND PRACTICES FOR STORING, RETRIEVING, ACCESSING, RETAINING, AND DISPOSING OF RECORDS IN THE SYSTEM:

STORAGE:

Service call records are maintained in an electronic database using a commercial software application. Work orders are generated from these records and printed out.

RETRIEVABILITY:

Indexed by name of requesting individual and tracking number assigned to each service request.

SAFEGUARDS:

Access is restricted to agency personnel or contractors whose responsibilities require access. Access to electronic records is controlled by “user ID” and password combination and/or other appropriate electronic access and network controls (e.g., firewalls). FTC buildings are guarded and monitored by security personnel, cameras, ID checks, and other physical security measures.

RETENTION AND DISPOSAL:

Records are to be retained for at least three months after work is performed or the request is cancelled. See National Archives and Records Administration General Records Schedule 11.5 (Building and Equipment Service Files). The FTC currently maintains records in this system for at least 12 months, because questions pertaining to prior requests can arise several months after the work has been completed.

SYSTEM MANAGER(S) AND ADDRESS:

Director, Administrative Services Office, Office of the Executive Director, Federal Trade Commission, 600 Pennsylvania Avenue, NW., Washington, DC 20580.

NOTIFICATION PROCEDURE; RECORD ACCESS PROCEDURES; AND CONTESTING RECORD PROCEDURES:

See Appendix II.

RECORD SOURCE CATEGORIES:

Individual about whom the record is maintained and staff who responded to the request for service.

EXEMPTIONS CLAIMED FOR THE SYSTEM:

None.

Appendix I

Authorized Disclosures and Routine Uses Applicable to All FTC Privacy Act Systems of Records

The Privacy Act allows the FTC to disclose its Privacy Act records in the following ways:

(1) Within the FTC, to FTC officers and employees who need the record to perform their duties;

(2) In response to a request for public disclosure under the Freedom of Information Act (FOIA);

(3) For any “routine use” compatible with the purpose for which the record was collected, as set forth in each system of records notice and in paragraphs (13)-(23) of this Appendix below;

(4) To the Bureau of the Census for purposes of planning or carrying out a census or survey or related activity under title 13 of the United States Code;

(5) To a recipient who has provided the agency with advance adequate written assurance that the record will be used solely as a statistical research or reporting record, and the record is to be transferred in a form that is not individually identifiable;

(6) To the National Archives and Records Administration as a record having sufficient historical or other value to warrant its continued preservation by the United States Government, or for evaluation by the Archivist of the United States or the designee of the Archivist to determine whether the record has such value;

(7) To another agency or to an instrumentality of any governmental jurisdiction within or under the control of the United States for a civil or criminal law enforcement activity if the activity is authorized by law, and if the head of the agency or instrumentality has made a written request to the agency which maintains the record specifying the particular portion desired and the law enforcement activity for which the record is sought;

(8) To a person pursuant to a showing of compelling circumstances affecting the health or safety of an individual if upon such disclosure notification is transmitted to the last known address of such individual;

(9) To either House of Congress, or, to the extent of a matter within its jurisdiction, any committee or subcommittee thereof, any joint committee of Congress or subcommittee of any such joint committee;

(10) To the Comptroller General, or any of his authorized representatives, in the course of the performance of the duties of the General Accounting Office;

(11) Under an order of a court of competent jurisdiction; and

(12) To a consumer reporting agency, when trying to collect a claim of the Government, in accordance with 31 U.S.C. 3711(e).

In addition, in accordance with paragraph (3) above, the “routine uses” set forth in paragraphs (13) through (23) below shall apply to all records in all FTC Privacy Act systems of records. Specifically, such records:

(13) Where appropriately incorporated into the records maintained in FTC-II-6 (Discrimination Complaint System—FTC), may be disclosed under the routine uses published for that system;

(14) May be disclosed to the National Archives and Records Administration for records management inspections conducted under authority of 44 U.S.C. 2904 and 2906;

(15) May be disclosed to other agencies, offices, establishments, and authorities, whether federal, state, local, foreign, or self-regulatory (including, but not limited to organizations such as professional associations or licensing boards), authorized or with the responsibility to investigate, litigate, prosecute, enforce, or implement a statute, rule, regulation, or order, where the record or information by itself or in connection with other records or information:

(a) Indicates a violation or potential violation of law, whether criminal, civil, administrative, or regulatory in nature, and whether arising by general statute or particular program statute, or by regulation, rule, or order issued pursuant thereto, or

(b) Indicates a violation or potential violation of a professional, licensing, or similar regulation, rule, or order, or otherwise reflects on the qualifications or fitness of an individual who is licensed or seeking to be licensed;

(16) May be disclosed to any source, private or governmental, to the extent necessary to secure from such source information relevant to and sought in furtherance of a legitimate investigation or audit;

(17) May be disclosed to any authorized agency component of the Federal Trade Commission, Department of Justice, or other law enforcement authorities, and for disclosure by such parties:

(a) To the extent relevant and necessary in connection with litigation in proceedings before a court or other adjudicative body, where (i) the United States is a party to or has an interest in the litigation, including where the agency, or an agency component, or an agency official or employee in his or her official capacity, or an individual agency official or employee whom the Department of Justice has agreed to represent, is or may likely become a party, and (ii) the litigation is likely to affect the agency or any component thereof; or

(b) To obtain advice, including advice concerning the accessibility of a record or information under the Privacy Act or the Freedom of Information Act;

(18) May be disclosed to a congressional office in response to an inquiry from that office made at the written request of the subject individual, but only to the extent that the record would be legally accessible to that individual;

(19) May be disclosed to debt collection contractors for the purpose of collecting debts owed to the government, as authorized under the Debt Collection Act of 1982, 31 U.S.C. 3718, and subject to applicable Privacy Act safeguards;

(20) May be disclosed to a grand jury agent pursuant either to a federal or state grand jury subpoena, or to a prosecution request that such record be released for the purpose of its introduction to a grand jury, where the subpoena or request has been specifically approved by a court;

(21) May be disclosed to the Office of Management and Budget (OMB) for the purpose of obtaining advice regarding agency obligations under the Privacy Act, or in connection with the review of private relief legislation pursuant to OMB Circular A-19;

(22) May be disclosed to appropriate agencies, entities, and persons when: (a) the FTC suspects or has confirmed that the security or confidentiality of information in the system of records has been compromised; (b) the FTC has determined that as a result of the suspected or confirmed compromise there is a risk of harm to economic or property interests, identity theft or fraud, or harm to the security or integrity of this system or other systems or programs (whether maintained by the FTC or another agency or entity) that rely upon the compromised information; and (c) the disclosure made to such agencies, entities, and persons is reasonably necessary to assist in connection with the FTC’s efforts to respond to the suspected or confirmed compromise and prevent, minimize, or remedy such harm; and

(23) May be disclosed to FTC contractors, volunteers, interns or other authorized individuals who have a need for the record in order to perform their officially assigned or designated duties for or on behalf of the FTC.

The routine uses contained in this Appendix are in addition to any routine uses contained in the system of records notice (SORN) for each FTC Privacy Act records system. Some of the authorized disclosures and routine uses may overlap with one another. The FTC will treat a routine use as valid and still in effect, even if an overlapping routine use or disclosure is partly or fully invalidated or repealed.

Appendix II

How To Make A Privacy Act Request

An individual may: request notification as to whether an FTC system of records contains records retrieved using his or her personal identifier; request access to records in a system of records; and contest the accuracy or completeness of records.

Each of those actions may be initiated by the individual by mailing or delivering a written request that includes the individual’s name, return address, and signature, addressed to:

Privacy Act Request

Office of the General Counsel

Federal Trade Commission

600 Pennsylvania Avenue, NW.

Washington, DC 20580

Note: Individuals are not required to follow these procedures for FTC systems that are designed to allow individuals to review, access or correct their system records online or through other means (e.g., National Do Not Call Registry system).

Contents of the written request. Where a written request is required, the request must specify the pertinent FTC system(s) of records, and include any additional information needed to locate the records. The individual’s signature will be deemed a certification that he or she is the individual to whom the record pertains. The FTC may require additional verification of identity when reasonably necessary to assure that records are not improperly disclosed. The FTC will not require additional verification if the records about the individual are available to the public under the Freedom of Information Act (FOIA). More detailed information about how to make a Privacy Act request is contained in the section 4.13 of the FTC’s Rules of Practice, 16 CFR 4.13, which may be viewed online at http://ecfr.gpoaccess.gov/.

Exempt systems. Some record systems are exempt from disclosure to the individual and from other requirements of the Privacy Act. See the system of records notice applicable to the records you are requesting if you want to know if that system is exempt. The FTC is not required to provide an individual access to any information compiled in reasonable anticipation of a civil action or proceeding. 5 U.S.C. 552a(d)(5).

Requests to correct or amend. A request to correct or amend your Privacy Act records must state the specific nature and reason for the request. The FTC does not delete or remove records in response to a request to correct or amend a Privacy Act record, including any records that have been publicly posted on the Internet (e.g., public comments). All FTC records, including public record documents, are retained and destroyed only in accordance with schedules and guidance issued or approved by the National Archives and Records Administration under the Federal Records Act and other applicable laws. If a Privacy Act request results in the correction or amendment of a record that has been posted on the FTC’s public record, the FTC will correct or amend the public record accordingly without deleting or removing it.

Privacy Act records maintained by other Federal agencies. For records collected and maintained by other Federal agencies, please contact those agencies directly or visit their Web sites to obtain access.

Appendix III

Locations of FTC Buildings and Regional Offices

In addition to the FTC's headquarters building at 600 Pennsylvania Avenue, NW., Washington, DC 20580, the FTC has a satellite building at 601 New Jersey Avenue, NW., Washington, DC 20001, and also operates the following Regional Offices where Privacy Act records may in some cases be maintained or accessed:

East Central Region

Eaton Center, Suite 200

1111 Superior Avenue

Cleveland, OH 44114-2507

Midwest Region

55 West Monroe Street, Suite 1825

Chicago, IL 60603-5001

Northeast Region

Alexander Hamilton U.S. Custom House

One Bowling Green, Suite 318

New York, NY 10004

Northwest Region

915 Second Avenue, Suite 2896

Seattle, WA 98174

Southeast Region

225 Peachtree Street, NE., Suite 1500

Atlanta, GA 30303

Southwest Region

1999 Bryan Street, Suite 2150

Dallas, TX 75201

Western Region—San Francisco

901 Market Street, Suite 570

San Francisco, CA 94103

Western Region—Los Angeles

10877 Wilshire Boulevard, Suite 700

Los Angeles, CA 90024

In addition, FTC records subject to the Privacy Act may sometimes be maintained at other facilities leased by the FTC or operated by FTC contractors, including by other Federal agencies, or by the National Archives & Records Administration on the FTC’s behalf.

By direction of the Commission.

Donald S. Clark,
Secretary

[FR Doc. E8-13111 Filed 6-11-08: 8:45 am]

BILLING CODE 6750-01-S